DEPARTMENT OF HEALTH AND HUMAN SERVICES

Centers for Medicare & Medicaid Services

42 CFR Parts 403, 412, 413, 418, 460, 480, 482, 483, 485, and 489

[CMS-1428-CN]

RIN 0938-AL23

Medicare Program; Proposed Changes to the Hospital Inpatient Prospective Payment Systems and Fiscal Year 2005 Rates; Correction

AGENCY: Centers for Medicare & Medicaid Services (CMS), HHS.

ACTION: Correction of proposed rule.

SUMMARY: This document corrects technical errors that occurred in the proposed rule entitled “Medicare Program; Proposed Changes to the Hospital Inpatient Prospective Payment Systems and Fiscal Year 2005 Rates,” including technical errors in four of the tables containing the proposed wage index values for FY 2005 (69 FR 28196, May 18, 2004).

FOR FURTHER INFORMATION CONTACT: James Hart, (410) 786-9520.

SUPPLEMENTARY INFORMATION:

I. Background

FR Doc. 04-10932 contains our proposed rule to update the Medicare hospital inpatient prospective payment system for fiscal year (FY) 2005 and to implement a number of changes made by the Medicare Prescription Drug, Improvement, and Modernization Act of 2003, Public Law 108-173 (69 FR 28196, May 18, 2004). We have identified a number of technical errors and are correcting them in sections II. and III. of this preamble. These errors include:

• On page 28223, third column, lines 57 through 60, in our discussion of drug-eluting stents under section “b. Coronary Stent Procedures” under item “16. Other DRG Issues,” we cited incorrect numbers of cases involving drug-eluting stents in DRGs 526 and 527 from the FY 2003 MedPAR file.

• On page 28224, second column, under section “d. Implantable Cardiac Defibrillators” under item “16. Other DRG Issues,” we discussed a request for a national coverage determination (NCD) we had received on potential payment mechanisms to encourage the use of simple, single-lead implantable defibrillators when medically indicated, rather than expensive, technologically complex devices. The proposed rule stated that “The requestor further added that CMS could restrict use of complex defibrillators to patients for whom they are medically necessary, that is, in the population at low-moderate risk for sudden cardiac death.” We incorrectly associated this suggestion with the requestor, a manufacturer of defibrillators. CMS staff actually made this suggestion as part of the NCD on implantable defibrillators that is currently being reviewed. We regret any incorrect impression that may have been conveyed to the public regarding the manufacturer.

• In the Addendum of the proposed rule, errors in four of the tables containing wage index values resulted from the inadvertent omission of one of the geographic statistical areas that caused a misalignment of the stated wage index values in the tables for a number of areas.

1. On pages 28525 through 28535, in Table 3A—FY 2005 and 3-Year Average Hourly Wage for Urban Areas, the average hourly wages entries in columns 2 and 3 for 42 geographic areas (the entries for Erie, PA through Greensboro-High Point, NC, the entries for Newark-Union, NJ-PA through New York-Wayne-White Plains, NY-NJ, and the entries for Portland-South Portland-Biddeford, ME through Port St. Lucie-Fort Pierce, FL) are misaligned and, therefore, incorrectly stated. We are publishing the corrected Table 3A in its entirety under section III. of this notice.

2. On page 28539 through 28579, in Table 4A—Wage Index and Capital Geographic Adjustment Factor (GAF) for Urban Areas, we inadvertently omitted four geographic areas. The geographic areas that were inadvertently omitted are as follows:

CBSA 21420, Enid, OK

CBSA 27460, Jamestown, NY

CBSA 29940, Lawrence, KS

CBSA 41140, St. Joseph, MO-KS

In CBSAs 21420 and 27460, all hospitals in these areas maintain their assignment to the geographic areas where they are currently located for the 3-year period, FY 2005, FY 2006, and FY 2007.

In CBSA 29940 and 41140, all hospitals geographically located in these areas are classified as rural under section 401 of the Medicare, Medicaid, and SCHIP [State Children's Health Insurance Program] Balanced Budget Refinement Act of 1999, Public Law 106-554. The areas are assigned the statewide rural-wide wage index values.

We are publishing the corrected Table 4A in its entirety under section III. of this notice.

3. On page 28586, in Table 4C—Wage Index and Capital Geographic Adjustment Factor (GAF) for Hospitals that are Reclassified, we incorrectly included two entries for Wilmington, NC. The first of these two entries should have been for Wilmington, DE.

4. On pages 28589 through 28628, in Table 4G—Pre-Reclassified Wage Index for Urban Areas, due to a misalignment of the CBSA code and urban area with the wage index value, we inadvertently published incorrect wage index values for 195 areas between CBSA 21420 and CBSA 41100. We are publishing the corrected Table 4G in its entirety under section III. of this notice.

We note that as soon as we discovered the errors in these four wage index tables after publication of the May 18, 2004 proposed rule, we posted the corrected tables on the CMS Web site: www.cms.hhs.gov. We also notified providers, fiscal intermediaries, and health organizations through the Internet.

• On pages 28663 through 28667, in Table 6A—New Diagnosis Codes, in the row entry for codes 521.06, through 528.79, in the “MDC” column, the MDC designations specifying “PRE” and “3” should have appeared on separate lines. For the convenience of the reader, we are publishing a corrected Table 6A in its entirety under section III. of this notice.

• On pages 28671 through 28674, in Table 6B—New Procedure Codes, we inadvertently omitted some of the MDC and DRG assignments entries in columns 4 and 5 for codes 84.59 through 84.69. For the convenience of the reader, we are publishing the corrected Table 6B in its entirety in section III. of this notice.

• On pages 28768 through 28770, in Table 9B—Hospital Reclassifications and Redesignations by Individual Hospital under Section 508 of Public Law 108-173—FY 2004, we incorrectly stated the “Wage index CBSA 508 Reclassification” entries in column 5 and the “Nearest County” designations identified in column 6 for several areas. The errors resulted from a programming error that occurred during the development of the data file. In section III. of this notice, we are publishing a corrected Table 9B in its entirety to reflect the corrected new (section 508) wage index MSA reclassifications and the identification of the nearest county.

• We are also correcting typographical, formatting, or other errors that appeared on various other pages of the FR document, as cited in sections II. and III. of this notice.

The comment period for the proposed rule ends on July 12, 2004 (69 FR 28196). Accordingly, we are correcting these technical errors in the preamble language and tables to assist interested parties in their review of the proposed rule. These corrections do not alter the substance of any of the proposals that were contained in the proposed rule.

II. Corrections to Errors in Preamble

In FR Doc. 04-10932 (69 FR 28196, May 18, 2004), make the following corrections:

1. On page 28205, third column, line 17, the figure “522” is corrected to read “518”.

2. On page 28212, second column, lines 12 and 13, the phrase “principal diagnosis of extensive third degree burns” is corrected to read “principal or secondary diagnosis of extensive third degree burns”.

3. On page 28223, third column, lines 57 through 60, the sentence “There have been a total of 42,356 cases in DRG 526, and 33,179 cases in DRG 527, with adjustments made for transfers to other facilities.” is corrected to read “There have been a total of approximately 11,084 cases in DRG 526 and 48,097 cases in DRG 527, with adjustments made for transfers to other facilities.”

4. On page 28224, second column, lines 13 through 21, the two sentences “The requestor indicated that, as part of CMS' coverage decisions, CMS could expand the population eligible for implantable defibrillators. The requestor further added that CMS could restrict use of complex defibrillators to patients for whom they are medically necessary, that is in the population at low-moderate risk for sudden cardiac death.” are deleted, and the sentence “As part of CMS' coverage decision, we are considering whether to restrict the use of complex defibrillators to patients for whom they are medically necessary; that is, the population at low-moderate risk for sudden cardiac death.” is added in their place.

5. On page 28269, second column, line 30, the term “FY 2004” is corrected to read “FY 2005”.

6. On page 28272, first column, line 62, the word “leans” is corrected to read “learns.”

7. On page 28273, first column, lines 12 and 24, the term “tracheostomy” is corrected to read “tracheostomy”.

8. On page 28273, first column, lines 59 and 60, the phrase “FY 2003 GROUPER Version 22.0” is corrected to read “FY 2005 GROUPER Version 22.0.”

9. On page 28317, second column, line 40, the date “2003” is corrected to read “2002”.

10. On page 28333, first column, line 59, the term “reviewer” is corrected to read “institution”.

11. On page 28353, second column, line 56, the phrase “rural area, or from a rural area to” is corrected to read “rural area, or from an urban area to”.

12. On page 28353, second column, line 66, the phrase “rural area to another urban area for the” is corrected to read “urban area to another urban area for the”.

13. On page 28369, third column, line 41, the term “reviewer” is corrected to read “institution”.

III. Corrections to Tables in the Addendum

In FR Doc. 04-10932 (69 FR 28196, May 18, 2004), make the following corrections to the specified tables in the Addendum:

1. On pages 28525 through 28535, Table 3A—FY 2005 and 3-Year Average Hourly Wage for Urban Areas is corrected to read as follows:

Table 3A.—FY 2005 and 3-Year* Average Hourly Wage for Urban Areas
[* Based on the sum of the salaries and hours computed for Federal Fiscal Years 2003, 2004, and 2005]
Urban area | FY 2005 average hourly wage | 3-Year average hourly wage
Abilene, TX | 20.7192 | 18.9824
Aguadilla-Isabela-San Sebastián, PR | 11.2655 | 10.7453
Akron, OH | 23.8325 | 22.9962
Albany, GA | 29.7233 | 27.0817
Albany-Schenectady-Troy, NY | 22.8339 | 21.1332
Albuquerque, NM | 26.7304 | 23.7887
Alexandria, LA | 21.5523 | 19.8721
Allentown-Bethlehem-Easton, PA-NJ | 25.0787 | 23.9067
Altoona, PA | 22.2721 | 21.8268
Amarillo, TX | 24.2098 | 22.4647
Ames, IA | 24.9835 | 23.3759
Anchorage, AK | 32.0618 | 30.6014
Anderson, IN | 23.0539 | 22.1872
Anderson, SC | 22.8431 | 21.2369
Ann Arbor, MI | 29.0908 | 27.7788
Anniston-Oxford, AL | 20.8110 | 19.8344
Appleton, WI | 23.9687 | 22.3453
Asheville, NC | 24.2317 | 23.1925
Athens-Clarke County, GA | 26.3163 | 24.7864
Atlanta-Sandy Springs-Marietta, GA | 26.0968 | 24.7895
Atlantic City, NJ | 28.1913 | 26.9178
Auburn-Opelika, AL | 21.6392 | 20.7095
Augusta-Richmond County, GA-SC | 24.1049 | 23.7946
Austin-Round Rock, TX | 25.2889 | 23.8238
Bakersfield, CA | 26.4694 | 24.5972
Baltimore-Towson, MD | 26.0377 | 24.5999
Bangor, ME | 26.1851 | 24.5706
Barnstable Town, MA | 31.4568 | 31.4010
Baton Rouge, LA | 21.9357 | 20.6202
Battle Creek, MI | 24.0082 | 23.1843
Bay City, MI | 25.2405 | 24.2291
Beaumont-Port Arthur, TX | 22.5157 | 20.9402
Bellingham, WA | 30.7463 | 29.4910
Bend, OR | 27.9273 | 26.2021
Bethesda-Frederick-Gaithersburg, MD | 28.9018 | 27.1525
Billings, MT | 23.6440 | 22.3010
Binghamton, NY | 22.3058 | 20.8442
Birmingham-Hoover, AL | 23.9518 | 22.6209
Bismarck, ND | 19.7855 | 19.3431
Blacksburg-Christiansburg-Radford, VA | 21.0452 | 20.0679
Bloomington, IN | 22.6815 | 21.6305
Bloomington-Normal, IL | 23.9217 | 22.3486
Boise City-Nampa, ID | 24.6083 | 23.0621
Boston-Quincy, MA | 30.6248 | 29.0263
Boulder, CO | 26.4802 | 24.7280
Bowling Green, KY | 21.4593 | 20.8100
Bremerton-Silverdale, WA | 27.9620 | 26.5966
Bridgeport-Stamford-Norwalk, CT | 33.8515 | 32.2888
Bristol, VA | 20.9298 | 19.1025
Brownsville-Harlingen, TX | 26.7592 | 24.2502
Brunswick, GA | 31.5173 | 25.9538
Buffalo-Niagara Falls, NY | 24.5833 | 23.3255
Burlington, NC | 23.3479 | 22.3446
Burlington-South Burlington, VT | 24.5519 | 23.9875
Cambridge-Newton-Framingham, MA | 29.4435 | 27.2369
Camden, NJ | 28.0847 | 26.6655
Canton-Massillon, OH | 23.4424 | 22.2411
Cape Coral-Fort Myers, FL | 24.6614 | 23.8158
Carson City, NV | 27.2406 | 25.0243
Casper, WY | 24.4534 | 23.1390
Cedar Rapids, IA | 23.6258 | 22.2100
Champaign-Urbana, IL | 25.0781 | 24.7625
Charleston, WV | 23.3325 | 21.9766
Charleston-North Charleston, SC | 24.6576 | 23.0430
Charlotte-Gastonia-Concord, NC-SC | 25.6333 | 24.3300
Charlottesville, VA | 27.1238 | 25.4502
Chattanooga, TNGA | 24.2726 | 22.6360
Cheyenne, WY | 23.7623 | 21.9411
Chicago-Naperville-Joliet, IL | 28.4445 | 27.1142
Chico, CA | 27.8014 | 25.3690
Cincinnati-Middletown, OH-KY-IN | 25.0591 | 23.3569
Clarksville, TN-KY | 21.1036 | 20.3476
Cleveland, TN | 20.7027 | 19.6847
Cleveland-Elyria-Mentor, OH | 25.4150 | 23.9998
Coeur d'Alene, ID | 24.5700 | 23.4802
College Station-Bryan, TX | 22.3591 | 21.7365
Colorado Springs, CO | 25.7626 | 24.4544
Columbia, MO | 21.9565 | 21.0526
Columbia, SC | 23.8491 | 22.4081
Columbus, GA-AL | 22.9004 | 21.3117
Columbus, IN | 24.9031 | 23.5191
Columbus, OH | 25.6517 | 24.0771
Corpus Christi, TX | 22.7808 | 21.3078
Corvallis, OR | 27.7295 | 27.6296
Cumberland, MD-WV | 22.7893 | 20.3329
Dallas-PlanoIrving, TX | 26.5316 | 24.9176
Dalton, GA | 24.5022 | 23.5790
Danville, IL | 22.1298 | 21.6265
Danville, VA | 23.1139 | 22.0447
Davenport-Moline-Rock Island, IA-IL | 23.0728 | 21.9290
Dayton, OH | 24.5023 | 23.1075
Decatur, AL | 23.4374 | 22.1047
Decatur, IL | 21.2982 | 20.0769
Deltona-Daytona Beach-Ormond Beach, FL | 22.7892 | 22.0973
Denver-Aurora, CO | 28.6847 | 26.7513
Des Moines, IA | 24.4196 | 22.5843
Detroit-Livonia-Dearborn, MI | 27.2854 | 25.8075
Dothan, AL | 19.9523 | 19.1936
Dover, DE | 25.1831 | 23.7712
Dubuque, IA | 22.9987 | 21.7824
Duluth, MN-WI | 27.4696 | 25.6665
Durham, NC | 27.1096 | 25.6687
Eau Claire, WI | 23.9598 | 22.4824
Edison, NJ | 29.3402 | 27.5086
El Centro, CA | 23.4586 | 22.4957
Elizabethtown, KY | 22.9071 | 20.9570
Elkhart-Goshen, IN | 24.4124 | 23.7579
Elmira, NY | 22.3147 | 20.8650
El Paso, TX | 24.2125 | 22.8475
Erie, PA | 22.8929 | 21.6426
Essex County, MA | 28.0402 | 26.1158
Eugene-Springfield, OR | 28.7902 | 27.8766
Evansville, IN-KY | 22.1001 | 20.6171
Fairbanks, AK | 29.3199 | 28.0993
Fajardo, PR | 10.5531 | 10.3744
Fargo, ND-MN | 24.0221 | 23.5747
Farmington, NM | 21.2164 | 21.8840
Fayetteville, NC | 24.6779 | 22.5084
Fayetteville-Springdale-Rogers, AR-MO | 22.8043 | 20.8321
Flagstaff, AZ | 28.4041 | 27.6198
Flint, MI | 29.4095 | 27.3393
Florence, AL | 20.8152 | 19.3461
Florence, SC | 22.4510 | 21.3335
Fond du Lac, WI | 26.0821 | 24.1790
Fort Collins-Loveland, CO | 26.6637 | 25.0766
Fort Lauderdale-Pompano Beach-Deerfield Beach, FL | 26.7632 | 25.3385
Fort Smith, AR-OK | 21.8487 | 20.2453
Fort Walton Beach-Crestview-Destin, FL | 23.1492 | 22.6355
Fort Wayne, IN | 25.8298 | 23.9115
Fort Worth-Arlington, TX | 25.0153 | 23.3197
Fresno, CA | 28.0138 | 25.8765
Gadsden, AL | 21.2676 | 20.4740
Gainesville, FL | 19.8501 | 21.8864
Gainesville, GA | 25.1968 | 23.1944
Gary, IN | 24.5239 | 23.3155
Glens Falls, NY | 22.3680 | 20.9769
Goldsboro, NC | 23.1243 | 21.6987
Grand Forks, ND-MN | 24.1051 | 21.9885
Grand Junction, CO | 26.1549 | 24.0220
Grand Rapids-Wyoming, MI | 24.8623 | 23.4427
Great Falls, MT | 23.3814 | 21.9663
Greeley, CO | 24.9396 | 23.3099
Green Bay, WI | 25.2440 | 23.6155
Greensboro-High Point, NC | 24.2613 | 22.8768
Greenville, NC | 24.1414 | 22.5921
Greenville, SC | 24.4160 | 23.4426
Guayama, PR | 10.5559 | 9.9125
Gulfport-Biloxi, MS | 23.5390 | 22.4842
Hagerstown-Martinsburg, MD-WV | 25.6718 | 23.1815
Hanford-Corcoran, CA | 24.5762 | 21.7460
Harrisburg-Carlisle, PA | 24.6512 | 23.0614
Harrisonburg, VA | 24.4488 | 22.6337
Hartford-West Hartford-East Hartford, CT | 29.2036 | 28.2830
Hattiesburg, MS | 19.4249 | 18.4478
Hickory-Lenoir-Morganton, NC | 24.9978 | 22.9254
Hinesville-Fort Stewart, GA | 20.3855 | 19.3480
Holland-Grand Haven, MI | 24.9271 | 23.6522
Honolulu, HI | 28.9110 | 27.6426
Hot Springs, AR | 24.4130 | 22.4838
Houma-Bayou Cane-Thibodaux, LA | 20.4523 | 19.7139
Houston-Baytown-Sugar Land, TX | 26.2765 | 24.3806
Huntington-Ashland, WV-KY-OH | 25.1999 | 24.0420
Huntsville, AL | 23.2679 | 22.2981
Idaho Falls, ID | 23.8241 | 22.0793
Indianapolis, IN | 26.5576 | 24.6427
Iowa City, IA | 25.4051 | 23.7752
Ithaca, NY | 25.7515 | 24.3335
Jackson, MI | 24.0606 | 22.7959
Jackson, MS | 21.8345 | 20.7075
Jackson, TN | 23.4297 | 22.4121
Jacksonville, FL | 25.1358 | 23.5679
Jacksonville, NC | 22.1036 | 20.7500
Janesville, WI | 25.2849 | 23.7717
Jefferson City, MO | 21.9580 | 21.3716
Johnson City, TN | 21.0075 | 19.8585
Johnstown, PA | 22.0755 | 21.0851
Jonesboro, AR | 21.0310 | 19.4623
Joplin, MO | 22.9927 | 21.5121
Kalamazoo-Portage, MI | 28.1681 | 26.8790
Kankakee-Bradley, IL | 27.7396 | 26.1968
Kansas City, MO-KS | 25.3052 | 23.9705
Kennewick-Richland-Pasco, WA | 27.6830 | 26.9371
Killeen-Temple-Fort Hood, TX | 24.4525 | 23.7215
Kingsport-Bristol, TN-VA | 21.7068 | 20.9083
Kingston, NY | 23.3310 | 22.8485
Knoxville, TN | 22.5696 | 21.8145
Kokomo, IN | 23.7604 | 22.5267
La Crosse, WI-MN | 24.4486 | 23.0910
Lafayette, IN | 23.8521 | 22.6294
Lafayette, LA | 21.8711 | 20.8396
Lake Charles, LA | 20.8252 | 19.5207
Lake County-Kenosha County, IL-WI | 27.1905 | 25.6826
Lakeland, FL | 23.5669 | 22.3605
Lancaster, PA | 26.0776 | 23.4410
Lansing-East Lansing, MI | 25.4363 | 24.0043
Laredo, TX | 21.8037 | 20.4902
Las Cruces, NM | 23.0910 | 21.6543
Las Vegas-Paradise, NV | 29.9181 | 29.0021
Lawrence, KS ¹
Lawton, OK | 21.7250 | 20.5120
Lebanon, PA | 22.5879 | 21.0978
Lewiston, ID-WA | 24.5156 | 23.4734
Lewiston-Auburn, ME | 25.2729 | 23.3141
Lexington-Fayette, KY | 23.8558 | 21.9407
Lima, OH | 24.5295 | 23.5975
Lincoln, NE | 26.8321 | 25.2305
Little Rock-North Little Rock, AR | 23.7449 | 22.2587
Logan, UT-ID | 23.9292 | 23.2359
Longview, TX | 23.1966 | 21.8904
Longview, WA | 26.7652 | 25.5095
Los Angeles-Long Beach-Glendale, CA Metropolitan Div | 30.8382 | 29.3226
Louisville, KY-IN | 24.0460 | 22.8315
Lubbock, TX | 23.1292 | 21.9599
Lynchburg, VA | 23.7883 | 22.5784
Macon, GA | 26.1161 | 23.3172
Madera, CA | 22.4666 | 21.5471
Madison, WI | 27.1443 | 25.4986
Manchester-Nashua, NH | 27.7970 | 26.1531
Mansfield, OH | 24.2494 | 22.8092
Mayagüez, PR | 11.7074 | 11.2316
McAllen-Edinburg-Pharr, TX | 22.6720 | 21.2111
Medford, OR | 27.7639 | 26.3299
Memphis, TN-MS-AR | 24.3194 | 22.4212
Merced, CA | 27.1731 | 24.6543
Miami-Miami Beach-Kendall, FL | 26.4073 | 24.6105
Michigan City-La Porte, IN | 24.5851 | 23.6069
Midland, TX | 24.7346 | 24.4654
Milwaukee-Waukesha-West Allis, WI | 26.5679 | 24.7859
Minneapolis-St. Paul-Bloomington, MN-WI | 29.1136 | 27.2452
Missoula, MT | 25.2650 | 22.6543
Mobile, AL | 21.0774 | 19.9429
Modesto, CA | 31.5679 | 28.1097
Monroe, LA | 20.8428 | 19.7851
Monroe, MI | 25.0193 | 23.6265
Montgomery, AL | 21.8534 | 19.6944
Morgantown, WV | 22.9253 | 21.5156
Morristown, TN | 20.4952 | 19.5595
Mount Vernon-Anacortes, WA | 27.8164 | 26.4332
Muncie, IN | 22.6476 | 21.9816
Muskegon-Norton Shores, MI | 25.6847 | 24.0160
Myrtle Beach-Conway-North Myrtle Beach, SC | 22.5894 | 22.0416
Napa, CA | 32.9951 | 30.3948
Naples-Marco Island, FL | 27.8495 | 24.9735
Nashville-Davidson-Murfreesboro, TN | 26.5923 | 24.4382
Newark-Union, NJPA | 30.7799 | 28.6257
New Haven-Milford, CT | 31.0966 | 29.3258
New Orleans-Metairie-Kenner, LA | 23.9702 | 22.5635
New York-Wayne-White Plains, NY-NJ | 35.0299 | 33.8042
Niles-Benton Harbor, MI | 23.4564 | 22.1503
Norwich-New London, CT | 30.5636 | 28.9104
Oakland-Fremont-Hayward, CA | 40.0963 | 37.4101
Ocala, FL | 24.1700 | 23.3534
Ocean City, NJ | 28.5014 | 26.7316
Odessa, TX | 25.8218 | 22.7836
Ogden-Clearfield, UT | 24.2790 | 23.6339
Oklahoma City, OK | 23.6748 | 22.2955
Olympia, WA | 29.0091 | 27.1952
Omaha-Council Bluffs, NE-IA | 25.6722 | 24.3668
Orlando, FL | 25.7100 | 24.0572
Oshkosh-Neenah, WI | 23.8900 | 22.4593
Owensboro, KY | 22.2688 | 20.8069
Oxnard-Thousand Oaks-Ventura, CA | 29.2604 | 27.4878
Palm Bay-Melbourne-Titusville, FL | 25.3166 | 24.4546
Panama City-Lynn Haven, FL | 21.4149 | 20.7673
Parkersburg-Marietta, WV-OH | 22.0522 | 20.3637
Pascagoula, MS | 21.0129 | 20.2767
Pensacola-Ferry Pass-Brent, FL | 21.9457 | 21.2533
Peoria, IL | 23.1144 | 21.7408
Philadelphia, PA | 28.6035 | 26.8410
Phoenix-Mesa-Scottsdale, AZ | 26.3143 | 24.7648
Pine Bluff, AR | 22.9353 | 20.2396
Pittsburgh, PA | 22.9852 | 22.2476
Pittsfield, MA | 28.2766 | 25.8438
Pocatello, ID | 25.2790 | 23.0882
Ponce, PR | 13.1955 | 12.2999
Portland-South Portland-Biddeford, ME | 26.6238 | 24.6954
Portland-Vancouver-Beaverton, OR-WA | 29.9284 | 27.5978
Port St. Lucie-Fort Pierce, FL | 26.4924 | 24.6939
Poughkeepsie-Newburgh-Middletown, NY | 29.9575 | 27.8180
Prescott, AZ | 26.0843 | 24.3852
Providence-New Bedford-Fall River, RI-MA | 28.7646 | 26.9631
Provo-Orem, UT | 25.2290 | 24.3330
Pueblo, CO | 23.0560 | 21.7707
Punta Gorda, FL | 24.9044 | 23.3102
Racine, WI | 23.8692 | 22.5330
Raleigh-Cary, NC | 26.4490 | 23.8614
Rapid City, SD | 23.5206 | 22.0026
Reading, PA | 24.1151 | 22.7873
Redding, CA | 31.1709 | 28.5235
Reno-Sparks, NV | 27.5368 | 26.3026
Richmond, VA | 24.7694 | 23.3257
Riverside-San Bernardino-Ontario, CA | 28.9108 | 27.8355
Roanoke, VA | 21.9573 | 21.1792
Rochester, MN | 30.2629 | 29.1844
Rochester, NY | 24.4689 | 23.3450
Rockford, IL | 25.3001 | 23.8777
Rockingham County-Strafford County, NH | 26.9005 | 25.0922
Rocky Mount, NC | 23.7044 | 22.4921
Rome, GA | 23.3383 | 22.1831
Sacramento-Arden-Arcade-Roseville, CA | 30.7769 | 28.6803
Saginaw-Saginaw Township North, MI | 25.9729 | 24.2444
St. Cloud, MN | 26.7982 | 24.3631
St. George, UT | 24.9621 | 24.0247
St. Joseph, MO-KS ¹ |  |
St. Louis, MO-IL | 23.8362 | 22.2550
Salem, OR | 27.7944 | 25.9246
Salinas, CA | 36.6654 | 35.4103
Salisbury, MD | 24.0152 | 22.6054
Salt Lake City, UT | 25.2083 | 24.4086
San Angelo, TX | 21.5431 | 20.6794
San Antonio, TX | 23.7158 | 21.9397
San Diego-Carlsbad-San Marcos, CA | 29.6165 | 27.7504
Sandusky, OH | 23.7799 | 22.2393
San Francisco-San Mateo-Redwood City, CA | 37.8648 | 35.5059
San Germán-Cabo Rojo, PR | 13.8117 | 13.3968
San Jose-Sunnyvale-Santa Clara, CA | 38.2329 | 35.7808
San Juan-Caguas-Guaynabo, PR | 12.2140 | 11.6037
San Luis Obispo-Paso Robles, CA | 29.2883 | 27.9302
Santa Ana-Anaheim-Irvine, CA | 30.5694 | 28.5166
Santa Barbara-Santa Maria-Goleta, CA | 28.2108 | 26.2466
Santa Cruz-Watsonville, CA | 38.8735 | 34.1822
Santa Fe, NM | 28.6906 | 27.0247
Santa Rosa-Petaluma, CA | 34.0679 | 32.4622
Sarasota-Bradenton-Venice, FL | 25.3305 | 23.9836
Savannah, GA | 24.8959 | 23.4451
Scranton-Wilkes-Barre, PA | 22.4217 | 21.1520
Seattle-Bellevue-Everett, WA | 30.2247 | 28.5300
Sheboygan, WI | 23.6199 | 21.7331
Sherman-Denison, TX | 25.3558 | 23.6878
Shreveport-Bossier City, LA | 24.0625 | 22.4763
Sioux City, IA-NE-SD | 23.8643 | 22.3353
Sioux Falls, SD | 24.8121 | 23.2534
South Bend-Mishawaka, IN-MI | 24.8646 | 23.9958
Spartanburg, SC | 23.7540 | 22.2281
Spokane, WA | 28.0624 | 26.7830
Springfield, IL | 23.0154 | 21.7482
Springfield, MA | 26.8243 | 26.0789
Springfield, MO | 22.2360 | 20.9588
Springfield, OH | 23.0371 | 21.8250
State College, PA | 22.3097 | 21.5709
Stockton, CA | 27.8806 | 26.0627
Suffolk County-Nassau County, NY | 34.0869 | 32.5664
Sumter, SC | 21.1891 | 20.2758
Syracuse, NY | 24.9860 | 23.7102
Tacoma, WA | 29.1965 | 27.4453
Tallahassee, FL | 22.8474 | 21.2591
Tampa-St. Petersburg-Clearwater, FL | 23.8900 | 22.4996
Terre Haute, IN | 22.4475 | 20.9616
Texarkana, TX—Texarkana, AR | 22.1678 | 20.3845
Toledo, OH | 25.0701 | 23.6845
Topeka, KS | 23.4381 | 22.4553
Trenton-Ewing, NJ | 27.0639 | 25.7890
Tucson, AZ | 23.5858 | 22.0873
Tulsa, OK | 22.8973 | 21.5543
Tuscaloosa, AL | 21.9743 | 20.2439
Tyler, TX | 25.0645 | 23.6477
Utica-Rome, NY | 21.9234 | 20.8668
Valdosta, GA | 21.9663 | 20.8793
Vallejo-Fairfield, CA | 37.5290 | 35.5583
Vero Beach, FL | 25.0096 | 24.0705
Victoria, TX | 22.3222 | 20.7461
Vineland-Millville-Bridgeton, NJ | 27.8777 | 26.3280
Virginia Beach-Norfolk-Newport News, VA-NC | 23.5054 | 21.6059
Visalia-Porterville, CA | 26.4987 | 24.4049
Waco, TX | 21.4724 | 20.3429
Warner Robins, GA | 22.3821 | 21.5347
Warren-Farmington Hills-Troy, MI | 26.6333 | 24.9325
Washington-Arlington-Alexandria, DC-VA-MD-WV | 29.0848 | 27.2173
Waterloo-Cedar Falls, IA | 22.7467 | 20.6136
Wausau, WI | 25.3575 | 24.1052
Weirton-Steubenville, WV-OH | 21.8008 | 21.0217
Wenatchee, WA | 24.7862 | 25.4005
West Palm Beach-Boca Raton-Boynton Beach, FL | 26.4844 | 24.6697
Wheeling, WV-OH | 19.6453 | 18.6517
Wichita, KS | 24.9131 | 23.2912
Wichita Falls, TX | 22.0290 | 20.6773
Williamsport, PA | 22.1676 | 20.8109
Wilmington, DE-MD-NJ | 29.2092 | 27.2898
Wilmington, NC | 24.3139 | 23.5805
Winchester, VA-WV | 27.6387 | 25.3807
Winston-Salem, NC | 24.7904 | 22.9844
Worcester, MA | 29.0090 | 27.6763
Yakima, WA | 27.1916 | 25.8563
Yauco, PR | 11.8434 | 11.5358
York-Hanover, PA | 23.4402 | 22.3569
Youngstown-Warren-Boardman, OH-PA | 24.3356 | 22.4714
Yuba City, CA | 27.2687 | 25.5014
Yuma, AZ | 23.5066 | 21.8745
¹ The new MSA is empty for FY 2005. The hospital(s) in the new MSA received rural status under Section 401 of the Balanced Budget Refinement Act of 1999 (Pub. L. 106-113). The new MSA is assigned the statewide rural wage index (see Table 4B).

2. On pages 28536 through 28538, the title and subtitle of Table 3B are corrected to read as follows:

“Table 3B.—FY 2005 and 3-Year* Average Hourly Wage for Rural Areas

[*Based on the sum of the salaries and hours computed for Federal Fiscal Years 2003, 2004, and 2005.]”

In addition, the column heading for the second column is corrected to read “FY 2005 Average Hourly Wage”.

3. On pages 28539 through 28579, Table 4A—Wage Index and Capital Geographic Adjustment Factor (GAF) for Urban Areas, is corrected to read as follows:

Table 4A.—Wage Index and Capital Geographic Adjustment Factor (GAF) for Urban Areas
CBSA code | Urban area (constituent counties) | Wage index | GAF
10180 | Abilene, TX ² | 0.8011 | 0.8591
| Callahan County, TX
| Jones County, TX
| Taylor County, TX
10380 | Aguadilla-Isabela-San Sebastián, PR | 0.4285 | 0.5597
| Aguada Municipio, PR
| Aguadilla Municipio, PR
| Añasco Municipio, PR
| Isabela Municipio, PR
| Lares Municipio, PR
| Moca Municipio, PR
| Rincón Municipio, PR
| San Sebastián Municipio, PR
10420 | Akron, OH | 0.9065 | 0.9350
| Portage County, OH
| Summit County, OH
10500 | Albany, GA | 1.1306 | 1.0877
| Baker County, GA
| Dougherty County, GA
| Lee County, GA
| Terrell County, GA
| Worth County, GA
10580 | Albany-Schenectady-Troy, NY | 0.8685 | 0.9080
| Albany County, NY
| Rensselaer County, NY
| Saratoga County, NY
| Schenectady County, NY
| Schoharie County, NY
10740 | Albuquerque, NM | 1.0167 | 1.0114
| Bernalillo County, NM
| Sandoval County, NM
| Torrance County, NM
| Valencia County, NM
10780 | Alexandria, LA | 0.8198 | 0.8728
| Grant Parish, LA
| Rapides Parish, LA
10900 | Allentown-Bethlehem-Easton, PA-NJ | 0.9539 | 0.9682
| Warren County, NJ
| Carbon County, PA
| Lehigh County, PA
| Northampton County, PA
11020 | Altoona, PA | 0.8472 | 0.8927
| Blair County, PA
11100 | Amarillo, TX | 0.9209 | 0.9451
| Armstrong County, TX
| Carson County, TX
| Potter County, TX
| Randall County, TX
11180 | Ames, IA | 0.9503 | 0.9657
| Story County, IA
11260 | Anchorage, AK | 1.2195 | 1.1456
| Anchorage Municipality, AK
| Matanuska-Susitna Borough, AK
11300 | Anderson, IN | 0.8790 | 0.9155
| Madison County, IN
11340 | Anderson, SC | 0.8689 | 0.9083
| Anderson County, SC
11460 | Ann Arbor, MI | 1.1065 | 1.0718
| Washtenaw County, MI
11500 | Anniston-Oxford, AL | 0.7967 | 0.8559
| Calhoun County, AL
11540 | Appleton, WI ² | 0.9485 | 0.9644
| Calumet County, WI
| Outagamie County, WI
11700 | Asheville, NC | 0.9217 | 0.9457
| Buncombe County, NC
| Haywood County, NC
| Henderson County, NC
| Madison County, NC
12020 | Athens-Clarke County, GA | 1.0010 | 1.0007
| Clarke County, GA
| Madison County, GA
| Oconee County, GA
| Oglethorpe County, GA
12060 | Atlanta-Sandy Springs-Marietta, GA ¹ | 0.9926 | 0.9949
| Barrow County, GA
| Bartow County, GA
| Butts County, GA
| Carroll County, GA
| Cherokee County, GA
| Clayton County, GA
| Cobb County, GA
| Coweta County, GA
| Dawson County, GA
| DeKalb County, GA
| Douglas County, GA
| Fayette County, GA
| Forsyth County, GA
| Fulton County, GA
| Gwinnett County, GA
| Haralson County, GA
| Heard County, GA
| Henry County, GA
| Jasper County, GA
| Lamar County, GA
| Meriwether County, GA
| Newton County, GA
| Paulding County, GA
| Pickens County, GA
| Pike County, GA
| Rockdale County, GA
| Spalding County, GA
| Walton County, GA
12100 | Atlantic City, NJ | 1.0723 | 1.0490
| Atlantic County, NJ
12220 | Auburn-Opelika, AL | 0.8231 | 0.8752
| Lee County, AL
12260 | Augusta-Richmond County, GA-SC | 0.9169 | 0.9423
| Burke County, GA
| Columbia County, GA
| McDuffie County, GA
| Richmond County, GA
| Aiken County, SC
| Edgefield County, SC
12420 | Austin-Round Rock, TX ¹ | 0.9619 | 0.9737
| Bastrop County, TX
| Caldwell County, TX
| Hays County, TX
| Travis County, TX
| Williamson County, TX
12540 | Bakersfield, CA ² | 1.0440 | 1.0299
| Kern County, CA
12580 | Baltimore-Towson, MD ¹ | 0.9904 | 0.9934
| Anne Arundel County, MD
| Baltimore County, MD
| Carroll County, MD
| Harford County, MD
| Howard County, MD
| Queen Anne's County, MD
| Baltimore City, MD
12620 | Bangor, ME | 0.9960 | 0.9973
| Penobscot County, ME
12700 | Barnstable Town, MA | 1.1965 | 1.1307
| Barnstable County, MA
12940 | Baton Rouge, LA | 0.8344 | 0.8834
| Ascension Parish, LA
| East Baton Rouge Parish, LA
| East Feliciana Parish, LA
| Iberville Parish, LA
| Livingston Parish, LA
| Pointe Coupee Parish, LA
| St. Helena Parish, LA
| West Baton Rouge Parish, LA
| West Feliciana Parish, LA
12980 | Battle Creek, MI | 0.9132 | 0.9397
| Calhoun County, MI
13020 | Bay City, MI | 0.9601 | 0.9725
| Bay County, MI
13140 | Beaumont-Port Arthur, TX | 0.8564 | 0.8993
| Hardin County, TX
| Jefferson County, TX
| Orange County, TX
13380 | Bellingham, WA | 1.1695 | 1.1132
| Whatcom County, WA
13460 | Bend, OR | 1.0623 | 1.0423
| Deschutes County, OR
13644 | Bethesda-Frederick-Gaithersburg, MD ¹ | 1.0993 | 1.0670
| Frederick County, MD
| Montgomery County, MD
13740 | Billings, MT | 0.8993 | 0.9299
| Carbon County, MT
| Yellowstone County, MT
13780 | Binghamton, NY | 0.8484 | 0.8935
| Broome County, NY
| Tioga County, NY
13820 | BirminghamHoover, AL ¹ | 0.9111 | 0.9382
| Bibb County, AL
| Blount County, AL
| Chilton County, AL
| Jefferson County, AL
| St. Clair County, AL
| Shelby County, AL
| Walker County, AL
13900 | Bismarck, ND ² | 0.7741 | 0.8392
| Burleigh County, ND
| Morton County, ND
13980 | Blacksburg-Christiansburg-Radford, VA ² | 0.8065 | 0.8631
| Giles County, VA
| Montgomery County, VA
| Pulaski County, VA
| Radford City, VA
14020 | Bloomington, IN ² | 0.8675 | 0.9072
| Greene County, IN
| Monroe County, IN
| Owen County, IN
14060 | Bloomington-Normal, IL | 0.9099 | 0.9374
| McLean County, IL
14260 | Boise City-Nampa, ID | 0.9360 | 0.9557
| Ada County, ID
| Boise County, ID
| Canyon County, ID
| Gem County, ID
| Owyhee County, ID
14484 | Boston-Quincy, MA ¹ | 1.1649 | 1.1102
| Norfolk County, MA
| Plymouth County, MA
| Suffolk County, MA
14500 | Boulder, CO | 1.0072 | 1.0049
| Boulder County, CO
14540 | Bowling Green, KY | 0.8162 | 0.8702
| Edmonson County, KY
| Warren County, KY
14740 | Bremerton-Silverdale, WA | 1.0636 | 1.0431
| Kitsap County, WA
14860 | Bridgeport-Stamford-Norwalk, CT | 1.2876 | 1.1890
| Fairfield County, CT
14980 | Bristol, VA ² | 0.8065 | 0.8631
| Washington County, VA
| Bristol City, VA
15180 | Brownsville-Harlingen, TX | 1.0178 | 1.0122
| Cameron County, TX
15260 | Brunswick, GA | 1.1988 | 1.1322
| Brantley County, GA
| Glynn County, GA
| McIntosh County, GA
15380 | Buffalo-Niagara Falls, NY ¹ | 0.9351 | 0.9551
| Erie County, NY
| Niagara County, NY
15500 | Burlington, NC | 0.8881 | 0.9219
| Alamance County, NC
15540 | Burlington-South Burlington, VT ² | 0.9469 | 0.9633
| Chittenden County, VT
| Franklin County, VT
| Grand Isle County, VT
15764 | Cambridge-Newton-Framingham, MA ¹ | 1.1199 | 1.0806
| Middlesex County, MA
15804 | Camden, NJ ¹ | 1.0683 | 1.0463
| Burlington County, NJ
| Camden County, NJ
| Gloucester County, NJ
15940 | Canton-Massillon, OH | 0.8917 | 0.9245
| Carroll County, OH
| Stark County, OH
15980 | Cape Coral-Fort Myers, FL | 0.9380 | 0.9571
| Lee County, FL
16180 | Carson City, NV | 1.0362 | 1.0247
| Carson City, NV
16220 | Casper, WY | 0.9367 | 0.9562
| Natrona County, WY
16300 | Cedar Rapids, IA | 0.8987 | 0.9295
| Benton County, IA
| Jones County, IA
| Linn County, IA
16580 | Champaign-Urbana, IL | 0.9597 | 0.9722
| Champaign County, IL
| Ford County, IL
| Piatt County, IL
16620 | Charleston, WV | 0.8875 | 0.9215
| Boone County, WV
| Clay County, WV
| Kanawha County, WV
| Lincoln County, WV
| Putnam County, WV
16700 | Charleston-North Charleston, SC | 0.9379 | 0.9570
| Berkeley County, SC
| Charleston County, SC
| Dorchester County, SC
16740 | Charlotte-Gastonia-Concord, NC-SC ¹ | 0.9750 | 0.9828
| Anson County, NC
| Cabarrus County, NC
| Gaston County, NC
| Mecklenburg County, NC
| Union County, NC
| York County, SC
16820 | Charlottesville, VA | 1.0317 | 1.0216
| Albemarle County, VA
| Fluvanna County, VA
| Greene County, VA
| Nelson County, VA
| Charlottesville City, VA
16860 | Chattanooga, TN-GA | 0.9233 | 0.9468
| Catoosa County, GA
| Dade County, GA
| Walker County, GA
| Hamilton County, TN
| Marion County, TN
| Sequatchie County, TN
16940 | Cheyenne, WY ² | 0.9190 | 0.9438
| Laramie County, WY
16974 | Chicago-Naperville-Joliet, IL¹ | 1.0819 | 1.0554
| Cook County, IL
| DeKalb County, IL
| DuPage County, IL
| Grundy County, IL
| Kane County, IL
| Kendall County, IL
| McHenry County, IL
| Will County, IL
17020 | Chico, CA | 1.0575 | 1.0390
| Butte County, CA
17140 | Cincinnati-Middletown, OH-KY-IN ¹ | 0.9533 | 0.9678
| Dearborn County, IN
| Franklin County, IN
| Ohio County, IN
| Boone County, KY
| Bracken County, KY
| Campbell County, KY
| Gallatin County, KY
| Grant County, KY
| Kenton County, KY
| Pendleton County, KY
| Brown County, OH
| Butler County, OH
| Clermont County, OH
| Hamilton County, OH
| Warren County, OH
17300 | Clarksville, TN-KY | 0.8131 | 0.8679
| Christian County, KY
| Trigg County, KY
| Montgomery County, TN
| Stewart County, TN
17420 | Cleveland, TN ² | 0.7911 | 0.8517
| Bradley County, TN
| Polk County, TN
17460 | Cleveland-Elyria-Mentor, OH ¹ | 0.9667 | 0.9771
| Cuyahoga County, OH
| Geauga County, OH
| Lake County, OH
| Lorain County, OH
| Medina County, OH
17660 | Coeur d'Alene, ID | 0.9346 | 0.9547
| Kootenai County, ID
17780 | College Station-Bryan, TX | 0.8505 | 0.8950
| Brazos County, TX
| Burleson County, TX
| Robertson County, TX
17820 | Colorado Springs, CO | 0.9799 | 0.9862
| El Paso County, CO
| Teller County, CO
17860 | Columbia, MO | 0.8352 | 0.8840
| Boone County, MO
| Howard County, MO
17900 | Columbia, SC | 0.9071 | 0.9354
| Calhoun County, SC
| Fairfield County, SC
| Kershaw County, SC
| Lexington County, SC
| Richland County, SC
| Saluda County, SC
17980 | Columbus, GA-AL | 0.8711 | 0.9098
| Russell County, AL
| Chattahoochee County, GA
| Harris County, GA
| Marion County, GA
| Muscogee County, GA
18020 | Columbus, IN | 0.9472 | 0.9635
| Bartholomew County, IN
18140 | Columbus, OH ¹ | 0.9757 | 0.9833
| Delaware County, OH
| Fairfield County, OH
| Franklin County, OH
| Licking County, OH
| Madison County, OH
| Morrow County, OH
| Pickaway County, OH
| Union County, OH
18580 | Corpus Christi, TX | 0.8665 | 0.9065
| Aransas County, TX
| Nueces County, TX
| San Patricio County, TX
18700 | Corvallis, OR | 1.0547 | 1.0371
| Benton County, OR
19060 | Cumberland, MD-WV (MD Hospitals) ² | 0.9248 | 0.9479
| Allegany County, MD
| Mineral County, WV
19060 | Cumberland, MD-WV (WV Hospitals) | 0.8668 | 0.9067
| Allegany County, MD
| Mineral County, WV
19124 | Dallas-Plano-Irving, TX | 1.0092 | 1.0063
| Collin County, TX
| Dallas County, TX
| Delta County, TX
| Denton County, TX
| Ellis County, TX
| Hunt County, TX
| Kaufman County, TX
| Rockwall County, TX
19140 | Dalton, GA | 0.9320 | 0.9529
| Murray County, GA
| Whitfield County, GA
19180 | Danville, IL | 0.8418 | 0.8888
| Vermilion County, IL
19260 | Danville, VA | 0.8792 | 0.9156
| Pittsylvania County, VA
| Danville City, VA
19340 | Davenport-Moline-Rock Island, IA-IL | 0.8776 | 0.9145
| Henry County, IL
| Mercer County, IL
| Rock Island County, IL
| Scott County, IA
19380 | Dayton, OH | 0.9322 | 0.9531
| Greene County, OH
| Miami County, OH
| Montgomery County, OH
| Preble County, OH
19460 | Decatur, AL | 0.8915 | 0.9244
| Lawrence County, AL
| Morgan County, AL
19500 | Decatur, IL ² | 0.8364 | 0.8848
| Macon County, IL
19660 | Deltona-Daytona Beach-Ormond Beach, FL | 0.8685 | 0.9080
| Volusia County, FL
19740 | Denver-Aurora, CO ¹ | 1.0911 | 1.0615
| Adams County, CO
| Arapahoe County, CO
| Broomfield County, CO
| Clear Creek County, CO
| Denver County, CO
| Douglas County, CO
| Elbert County, CO
| Gilpin County, CO
| Jefferson County, CO
| Park County, CO
19780 | Des Moines, IA | 0.9288 | 0.9507
| Dallas County, IA
| Guthrie County, IA
| Madison County, IA
| Polk County, IA
| Warren County, IA
19804 | Detroit-Livonia-Dearborn, MI ¹ | 1.0379 | 1.0258
| Wayne County, MI
20020 | Dothan, AL ² | 0.7675 | 0.8343
| Geneva County, AL
| Henry County, AL
| Houston County, AL
20100 | Dover, DE ² | 0.9651 | 0.9760
| Kent County, DE
20220 | Dubuque, IA | 0.8748 | 0.9125
| Dubuque County, IA
20260 | Duluth, MN-WI | 1.0449 | 1.0305
| Carlton County, MN
| St. Louis County, MN
| Douglas County, WI
20500 | Durham, NC | 1.0312 | 1.0213
| Chatham County, NC
| Durham County, NC
| Orange County, NC
| Person County, NC
20740 | Eau Claire, WI ² | 0.9485 | 0.9644
| Chippewa County, WI
| Eau Claire County, WI
20764 | Edison, NJ ¹ | 1.1160 | 1.0781
| Middlesex County, NJ
| Monmouth County, NJ
| Ocean County, NJ
| Somerset County, NJ
20940 | El Centro, CA ² | 1.0440 | 1.0299
| Imperial County, CA
21060 | Elizabethtown, KY | 0.8713 | 0.9100
| Hardin County, KY
| Larue County, KY
21140 | Elkhart-Goshen, IN | 0.9286 | 0.9505
| Elkhart County, IN
21300 | Elmira, NY | 0.8488 | 0.8938
| Chemung County, NY
21340 | El Paso, TX | 0.9210 | 0.9452
| El Paso County, TX
21420 | Enid, OK | 0.9034 | 0.9328
| Garfield County, OK
21500 | Erie, PA | 0.8708 | 0.9096
| Erie County, PA
21604 | Essex County, MA | 1.0666 | 1.0451
| Essex County, MA
21660 | Eugene-Springfield, OR | 1.0951 | 1.0642
| Lane County, OR
21780 | Evansville, IN-KY (IN Hospitals) ² | 0.8675 | 0.9072
| Gibson County, IN
| Posey County, IN
| Vanderburgh County, IN
| Warrick County, IN
| Henderson County, KY
| Webster County, KY
21780 | Evansville, IN-KY (KY Hospitals) | 0.8406 | 0.8879
| Gibson County, IN
| Posey County, IN
| Vanderburgh County, IN
| Warrick County, IN
| Henderson County, KY
| Webster County, KY
21820 | Fairbanks, AK ² | 1.1761 | 1.1175
| Fairbanks North Star Borough,
| AK
21940 | Fajardo, PR | 0.4014 | 0.5352
| Ceiba Municipio, PR
| Fajardo Municipio, PR
| Luquillo Municipio, PR
22020 | Fargo, ND-MN ² | 0.9340 | 0.9543
| Clay County, MN
| Cass County, ND
22140 | Farmington, NM ² | 0.8592 | 0.9013
| San Juan County, NM
22180 | Fayetteville, NC | 0.9387 | 0.9576
| Cumberland County, NC
| Hoke County, NC
22220 | Fayetteville-Springdale-Rogers, AR-MO | 0.8687 | 0.9081
| Benton County, AR
| Madison County, AR
| Washington County, AR
| McDonald County, MO
22380 | Flagstaff, AZ | 1.0804 | 1.0544
| Coconino County, AZ
22420 | Flint, MI | 1.1187 | 1.0798
| Genesee County, MI
22460 | Florence-Muscle Shoals, AL | 0.7917 | 0.8522
| Colbert County, AL
| Lauderdale County, AL
22500 | Florence, SC | 0.8540 | 0.8976
| Darlington County, SC
| Florence County, SC
22540 | Fond du Lac, WI | 0.9921 | 0.9946
| Fond du Lac County, WI
22660 | Fort Collins-Loveland, CO | 1.0214 | 1.0146
| Larimer County, CO
22744 | Fort Lauderdale-Pompano Beach ¹ | 1.0408 | 1.0278
| Deerfield Beach, FL
| Broward County, FL
22900 | Fort Smith, AR-OK | 0.8311 | 0.8810
| Crawford County, AR
| Franklin County, AR
| Sebastian County, AR
| Le Flore County, OK
| Sequoyah County, OK
23020 | Fort Walton Beach-Crestview-Destin, FL | 0.8805 | 0.9165
| Okaloosa County, FL
23060 | Fort Wayne, IN | 0.9825 | 0.9880
| Allen County, IN
| Wells County, IN
| Whitley County, IN
23104 | Fort WorthArlington, TX ¹ | 0.9515 | 0.9665
| Johnson County, TX
| Parker County, TX
| Tarrant County, TX
| Wise County, TX
23420 | Fresno, CA | 1.0656 | 1.0445
| Fresno County, CA
23460 | Gadsden, AL | 0.8182 | 0.8716
| Etowah County, AL
23540 | Gainesville, FL ² | 0.8581 | 0.9005
| Alachua County, FL
| Gilchrist County, FL
23580 | Gainesville, GA | 0.9584 | 0.9713
| Hall County, GA
23844 | Gary, IN | 0.9328 | 0.9535
| Jasper County, IN
| Lake County, IN
| Newton County, IN
| Porter County, IN
24020 | Glens Falls, NY | 0.8508 | 0.8953
| Warren County, NY
| Washington County, NY
24140 | Goldsboro, NC | 0.8796 | 0.9159
| Wayne County, NC
24220 | Grand Forks, ND-MN (MN Hospitals) ² | 0.9340 | 0.9543
| Polk County, MN
| Grand Forks County, ND
24220 | Grand Forks, ND-MN (ND Hospitals) | 0.9169 | 0.9423
| Polk County, MN
| Grand Forks County, ND
24300 | Grand Junction, CO | 0.9949 | 0.9965
| Mesa County, CO
24340 | Grand Rapids-Wyoming, MI | 0.9457 | 0.9625
| Barry County, MI
| Ionia County, MI
| Kent County, MI
| Newaygo County, MI
24500 | Great Falls, MT | 0.8908 | 0.9239
| Cascade County, MT
24540 | Greeley, CO | 0.9758 | 0.9834
| Weld County, CO
24580 | Green Bay, WI | 0.9602 | 0.9726
| Brown County, WI
| Kewaunee County, WI
| Oconto County, WI
24660 | Greensboro-High Point, NC | 0.9228 | 0.9465
| Guilford County, NC
| Randolph County, NC
| Rockingham County, NC
24780 | Greenville, NC | 0.9200 | 0.9445
| Greene County, NC
| Pitt County, NC
24860 | Greenville, SC | 0.9287 | 0.9506
| Greenville County, SC
| Laurens County, SC
| Pickens County, SC
25020 | Guayama, PR | 0.4015 | 0.5353
| Arroyo Municipio, PR
| Guayama Municipio, PR
| Patillas Municipio, PR
25060 | Gulfport-Biloxi, MS | 0.8954 | 0.9271
| Hancock County, MS
| Harrison County, MS
| Stone County, MS
25180 | Hagerstown-Martinsburg, MD-WV | 0.9765 | 0.9838
| Washington County, MD
| Berkeley County, WV
| Morgan County, WV
25260 | Hanford-Corcoran, CA ² | 1.0440 | 1.0299
| Kings County, CA
25420 | Harrisburg-Carlisle, PA | 0.9377 | 0.9569
| Cumberland County, PA
| Dauphin County, PA
| Perry County, PA
25500 | Harrisonburg, VA | 0.9300 | 0.9515
| Rockingham County, VA
| Harrisonburg City, VA
25620 | Hattiesburg, MS ² | 0.7665 | 0.8335
| Forrest County, MS
| Lamar County, MS
| Perry County, MS
25860 | Hickory-Lenoir-Morganton, NC | 0.9508 | 0.9660
| Alexander County, NC
| Burke County, NC
| Caldwell County, NC
| Catawba County, NC
25980 | Hinesville-Fort Stewart, GA ² | 0.7774 | 0.8416
| Liberty County, GA
| Long County, GA
26100 | Holland-Grand Haven, MI | 0.9482 | 0.9642
| Ottawa County, MI
26180 | Honolulu, HI | 1.1018 | 1.0686
| Honolulu County, HI
26300 | Hot Springs, AR | 0.9286 | 0.9505
| Garland County, AR
26380 | Houma-Bayou Cane-Thibodaux, LA | 0.7779 | 0.8420
| Lafourche Parish, LA
| Terrebonne Parish, LA
26420 | Houston-Baytown-Sugar Land, TX> ¹ | 0.9995 | 0.9997
| Austin County, TX
| Brazoria County, TX
| Chambers County, TX
| Fort Bend County, TX
| Galveston County, TX
| Harris County, TX
| Liberty County, TX
| Montgomery County, TX
| San Jacinto County, TX
| Waller County, TX
26580 | Huntington-Ashland, WV-KY-OH | 0.9585 | 0.9714
| Boyd County, KY
| Greenup County, KY
| Lawrence County, OH
| Cabell County, WV
| Wayne County, WV
26620 | Huntsville, AL | 0.8861 | 0.9205
| Limestone County, AL
| Madison County, AL
26820 | Idaho Falls, ID | 0.9062 | 0.9348
| Bonneville County, ID
| Jefferson County, ID
26900 | Indianapolis, IN ¹ | 1.0102 | 1.0070
| Boone County, IN
| Brown County, IN
| Hamilton County, IN
| Hancock County, IN
| Hendricks County, IN
| Johnson County, IN
| Marion County, IN
| Morgan County, IN
| Putnam County, IN
| Shelby County, IN
26980 | Iowa City, IA | 0.9663 | 0.9768
| Johnson County, IA
| Washington County, IA
27060 | Ithaca, NY | 0.9795 | 0.9859
| Tompkins County, NY
27100 | Jackson, MI | 0.9152 | 0.9411
| Jackson County, MI
27140 | Jackson, MS | 0.8305 | 0.8806
| Copiah County, MS
| Hinds County, MS
| Madison County, MS
| Rankin County, MS
| Simpson County, MS
27180 | Jackson, TN | 0.8912 | 0.9242
| Chester County, TN
| Madison County, TN
27260 | Jacksonville, FL ¹ | 0.9574 | 0.9706
| Baker County, FL
| Clay County, FL
| Duval County, FL
| Nassau County, FL
| St. Johns County, FL
27340 | Jacksonville, NC ² | 0.8587 | 0.9009
| Onslow County, NC
27460 | Jamestown, NY | 0.8180 | 0.8715
| Chautauqua County, NY
27500 | Janesville, WI | 0.9618 | 0.9737
| Rock County, WI
27620 | Jefferson City, MO | 0.8352 | 0.8840
| Callaway County, MO
| Cole County, MO
| Moniteau County, MO
| Osage County, MO
27740 | Johnson City, TN | 0.7991 | 0.8576
| Carter County, TN
| Unicoi County, TN
| Washington County, TN
27780 | Johnstown, PA | 0.8397 | 0.8872
| Cambria County, PA
27860 | Jonesboro, AR | 0.8078 | 0.8640
| Craighead County, AR
| Poinsett County, AR
27900 | Joplin, MO | 0.8746 | 0.9123
| Jasper County, MO
| Newton County, MO
28020 | Kalamazoo-Portage, MI | 1.0714 | 1.0484
| Kalamazoo County, MI
| Van Buren County, MI
28100 | Kankakee-Bradley, IL | 1.0551 | 1.0374
| Kankakee County, IL
28140 | Kansas City, MO-KS ¹ | 0.9625 | 0.9742
| Franklin County, KS
| Johnson County, KS
| Leavenworth County, KS
| Linn County, KS
| Miami County, KS
| Wyandotte County, KS
| Bates County, MO
| Caldwell County, MO
| Cass County, MO
| Clay County, MO
| Clinton County, MO
| Jackson County, MO
| Lafayette County, MO
| Platte County, MO
| Ray County, MO
28420 | Kennewick-Richland-Pasco, WA | 1.0530 | 1.0360
| Benton County, WA
| Franklin County, WA
28660 | Killeen-Temple-Fort Hood, TX | 0.9301 | 0.9516
| Bell County, TX
| Coryell County, TX
| Lampasas County, TX
28700 | Kingsport-Bristol-Bristol, TN-VA | 0.8257 | 0.8771
| Hawkins County, TN
| Sullivan County, TN
| Scott County, VA
28740 | Kingston, NY | 0.8874 | 0.9215
| Ulster County, NY
28940 | Knoxville, TN | 0.8585 | 0.9008
| Anderson County, TN
| Blount County, TN
| Knox County, TN
| Loudon County, TN
| Union County, TN
29020 | Kokomo, IN | 0.9038 | 0.9331
| Howard County, IN
| Tipton County, IN
29100 | La Crosse, WI-MN (MN Hospitals) ² | 0.9340 | 0.9543
| Houston County, MN
| La Crosse County, WI
29100 | La Crosse, WI-MN (WI Hospitals) ² | 0.9485 | 0.9644
| Houston County, MN
| La Crosse County, WI
29140 | Lafayette, IN | 0.9073 | 0.9356
| Benton County, IN
| Carroll County, IN
| Tippecanoe County, IN
29180 | Lafayette, LA | 0.8319 | 0.8816
| Lafayette Parish, LA
| St. Martin Parish, LA
29340 | Lake Charles, LA | 0.7921 | 0.8525
| Calcasieu Parish, LA
| Cameron Parish, LA
29404 | Lake County-Kenosha County, IL-WI | 1.0342 | 1.0233
| Lake County, IL
| Kenosha County, WI
29460 | Lakeland, FL
| Polk County, FL | 0.8964 | 0.9278
29540 | Lancaster, PA | 0.9919 | 0.9944
| Lancaster County, PA
29620 | Lansing-East Lansing, MI | 0.9675 | 0.9776
| Clinton County, MI
| Eaton County, MI
| Ingham County, MI
29700 | Laredo, TX | 0.8293 | 0.8797
| Webb County, TX
29740 | Las Cruces, NM | 0.8783 | 0.9150
| Dona Ana County, NM
29820 | Las Vegas-Paradise, NV ¹ | 1.1380 | 1.0926
| Clark County, NV
29940 | Lawrence, KS ² | 0.8132 | 0.8680
| Douglas County, KS
30020 | Lawton, OK | 0.8264 | 0.8776
| Comanche County, OK
30140 | Lebanon, PA | 0.8592 | 0.9013
| Lebanon County, PA
30300 | Lewiston, ID-WA (ID Hospitals) ² | 0.9325 | 0.9533
| Nez Perce County, ID
| Asotin County, WA
30300 | Lewiston, ID-WA (WA Hospitals) | 1.0340 | 1.0232
| Nez Perce County, ID
| Asotin County, WA
30340 | Lewiston-Auburn, ME | 0.9613 | 0.9733
| Androscoggin County, ME
30460 | Lexington-Fayette, KY | 0.9074 | 0.9356
| Bourbon County, KY
| Clark County, KY
| Fayette County, KY
| Jessamine County, KY
| Scott County, KY
| Woodford County, KY
30620 | Lima, OH | 0.9330 | 0.9536
| Allen County, OH
30700 | Lincoln, NE | 1.0206 | 1.0141
| Lancaster County, NE
| Seward County, NE
30780 | Little Rock-North Little Rock, AR | 0.9032 | 0.9327
| Faulkner County, AR
| Grant County, AR
| Lonoke County, AR
| Perry County, AR
| Pulaski County, AR
| Saline County, AR
30860 | Logan, UT-ID | 0.9102 | 0.9376
| Franklin County, ID
| Cache County, UT
30980 | Longview, TX | 0.8823 | 0.9178
| Gregg County, TX
| Rusk County, TX
| Upshur County, TX
31020 | Longview, WA ² | 1.0340 | 1.0232
| Cowlitz County, WA
31084 | Los Angeles-Long Beach-Glendale, CA ¹ | 1.1730 | 1.1155
| Los Angeles County, CA
31140 | Louisville, KY-IN ¹ | 0.9146 | 0.9407
| Clark County, IN
| Floyd County, IN
| Harrison County, IN
| Washington County, IN
| Bullitt County, KY
| Henry County, KY
| Jefferson County, KY
| Meade County, KY
| Nelson County, KY
| Oldham County, KY
| Shelby County, KY
| Spencer County, KY
| Trimble County, KY
31180 | Lubbock, TX | 0.8798 | 0.9160
| Crosby County, TX
| Lubbock County, TX
31340 | Lynchburg, VA | 0.9048 | 0.9338
| Amherst County, VA
| Appomattox County, VA
| Bedford County, VA
| Campbell County, VA
| Bedford City, VA
| Lynchburg City, VA
31420 | Macon, GA | 0.9934 | 0.9955
| Bibb County, GA
| Crawford County, GA
| Jones County, GA
| Monroe County, GA
| Twiggs County, GA
31460 | Madera, CA ² | 1.0440 | 1.0299
| Madera County, CA
31540 | Madison, WI | 1.0325 | 1.0221
| Columbia County, WI
| Dane County, WI
| Iowa County, WI
31700 | Manchester-Nashua, NH | 1.0573 | 1.0389
| Hillsborough County, NH
31900 | Mansfield, OH | 0.9224 | 0.9462
| Richland County, OH
32420 | Mayagüez, PR | 0.4453 | 0.5746
| Hormigueros Municipio, PR
| Mayagüez Municipio, PR
32580 | McAllen-Edinburg-Pharr, TX | 0.8624 | 0.9036
| Hidalgo County, TX
32780 | Medford, OR | 1.0561 | 1.0381
| Jackson County, OR
32820 | Memphis, TN-MS-AR ¹ | 0.9250 | 0.9480
| Crittenden County, AR
| DeSoto County, MS
| Marshall County, MS
| Tate County, MS
| Tunica County, MS
| Fayette County, TN
| Shelby County, TN
| Tipton County, TN
32900 | Merced, CA² | 1.0440 | 1.0299
| Merced County, CA
33124 | Miami-Miami Beach-Kendall, FL ¹ | 1.0045 | 1.0031
| Miami-Dade County, FL
33140 | Michigan City-La Porte, IN | 0.9351 | 0.9551
| LaPorte County, IN
33260 | Midland, TX | 0.9408 | 0.9591
| Midland County, TX
33340 | Milwaukee-Waukesha-West Allis, WI ¹ | 1.0106 | 1.0072
| Milwaukee County, WI
| Ozaukee County, WI
| Washington County, WI
| Waukesha County, WI
33460 | Minneapolis-St. Paul-Bloomington, MN-WI ¹ | 1.1074 | 1.0724
| Anoka County, MN
| Carver County, MN
| Chisago County, MN
| Dakota County, MN
| Hennepin County, MN
| Isanti County, MN
| Ramsey County, MN
| Scott County, MN
| Sherburne County, MN
| Washington County, MN
| Wright County, MN
| Pierce County, WI
| St. Croix County, WI
33540 | Missoula, MT | 0.9657 | 0.9764
| Missoula County, MT
33660 | Mobile, AL | 0.8017 | 0.8595
| Mobile County, AL
33700 | Modesto, CA | 1.2007 | 1.1334
| Stanislaus County, CA
33740 | Monroe, LA | 0.7928 | 0.8530
| Ouachita Parish, LA
| Union Parish, LA
33780 | Monroe, MI | 0.9517 | 0.9667
| Monroe County, MI
33860 | Montgomery, AL | 0.8312 | 0.8811
| Autauga County, AL
| Elmore County, AL
| Lowndes County, AL
| Montgomery County, AL
34060 | Morgantown, WV | 0.8720 | 0.9105
| Monongalia County WV
| Preston County, WV
34100 | Morristown, TN ² | 0.7911 | 0.8517
| Grainger County, TN
| Hamblen County, TN
| Jefferson County, TN
34580 | Mount Vernon-Anacortes, WA | 1.0581 | 1.0394
| Skagit County, WA
34620 | Muncie, IN ² | 0.8675 | 0.9072
| Delaware County, IN
34740 | Muskegon-Norton Shores, MI | 0.9770 | 0.9842
| Muskegon County, MI
34820 | Myrtle Beach-Conway-North Myrtle Beach, SC | 0.8592 | 0.9013
| Horry County, SC
34900 | Napa, CA | 1.3537 | 1.2305
| Napa County, CA
34940 | Naples-Marco Island, FL | 1.0593 | 1.0402
| Collier County, FL
34980 | Nashville-Davidson-Murfreesboro, TN | 1.0115 | 1.0079
| Cannon County, TN
| Cheatham County, TN
| Davidson County, TN
| Dickson County, TN
| Hickman County, TN
| Macon County, TN
| Robertson County, TN
| Rutherford County, TN
| Smith County, TN
| Sumner County, TN
| Trousdale County, TN
| Williamson County, TN
| Wilson County, TN
35084 | Newark-Union, NJ-PA ¹ | 1.1708 | 1.1140
| Essex County, NJ
| Hunterdon County, NJ
| Morris County, NJ
| Sussex County, NJ
| Union County, NJ
| Pike County, PA
35300 | New Haven-Milford, CT | 1.1828 | 1.1218
| New Haven County, CT
35380 | New Orleans-Metairie-Kenner, LA ¹ | 0.9118 | 0.9387
| Jefferson Parish, LA
| Orleans Parish, LA
| Plaquemines Parish, LA
| St. Bernard Parish, LA
| St. Charles Paris, LA
| St. John the Baptist Parish, LA
| St. Tammany Parish, LA
35644 | New York-Wayne-White Plains, NY-NJ¹ | 1.3324 | 1.2172
| Bergen County, NJ
| Hudson County, NJ
| Passaic County, NJ
| Bronx County, NY
| Kings County, NY
| New York County, NY
| Putnam County, NY
| Queens County, NY
| Richmond County, NY
| Rockland County, NY
| Westchester County, NY
35660 | Niles-Benton Harbor, MI | 0.8922 | 0.9249
| Berrien County, MI
35980 | Norwich-New London, CT | 1.1625 | 1.1086
| New London County, CT
36084 | Oakland-Fremont-Hayward, CA ¹ | 1.5387 | 1.3433
| Alameda County, CA
| Contra Costa County, CA
36100 | Ocala, FL | 0.9194 | 0.9441
| Marion County, FL
36140 | Ocean City, NJ | 1.0841 | 1.0569
| Cape May County, NJ
36220 | Odessa, TX | 0.9822 | 0.9878
| Ector County, TX
36260 | Ogden-Clearfield, UT | 0.9303 | 0.9517
| Davis County, UT
| Morgan County, UT
| Weber County, UT
36420 | Oklahoma City, OK ¹ | 0.9005 | 0.9307
| Canadian County, OK
| Cleveland County, OK
| Grady County, OK
| Lincoln County, OK
| Logan County, OK
| McClain County, OK
| Oklahoma County, OK
36500 | Olympia, WA | 1.1034 | 1.0697
| Thurston County, WA
36540 | Omaha-Council Bluffs, NE-IA | 0.9765 | 0.9838
| Harrison County, IA
| Mills County, IA
| Pottawattamie County, IA
| Cass County, NE
| Douglas County, NE
| Sarpy County, NE
| Saunders County, NE
| Washington County, NE
36740 | Orlando, FL ¹ | 0.9779 | 0.9848
| Lake County, FL
| Orange County, FL
| Osceola County, FL
| Seminole County, FL
36780 | Oshkosh-Neenah, WI ² | 0.9485 | 0.9644
| Winnebago County, WI
36980 | Owensboro, KY | 0.8470 | 0.8925
| Daviess County, KY
| Hancock County, KY
| McLean County, KY
37100 | Oxnard-Thousand Oaks-Ventura, CA | 1.1130 | 1.0761
| Ventura County, CA
37340 | Palm Bay-Melbourne-Titusville, FL | 0.9630 | 0.9745
| Brevard County, FL
37460 | Panama City-Lynn Haven, FL ² | 0.8581 | 0.9005
| Bay County, FL
37620 | Parkersburg-Marietta, WV-OH (OH Hospitals) ² | 0.8708 | 0.9096
| Washington County, OH
| Pleasants County, WV
| Wirt County, WV
| Wood County, W
37620 | Parkersburg-Marietta, WV-OH (WV Hospitals) | 0.8388 | 0.8866
| Washington County, OH
| Pleasants County, WV
| Wirt County, WV
| Wood County, WV
37700 | Pascagoula, MS | 0.7993 | 0.8578
| George County, MS
| Jackson County, MS
37860 | Pensacola-Ferry Pass-Brent, FL ² | 0.8581 | 0.9005
| Escambia County, FL
| Santa Rosa County, FL
37900 | Peoria, IL | 0.8853 | 0.9200
| Marshall County, IL
| Peoria County, IL
| Stark County, IL
| Tazewell County, IL
| Woodford County, IL
37964 | Philadelphia, PA ¹ | 1.0880 | 1.0595
| Bucks County, PA
| Chester County, PA
| Delaware County, PA
| Montgomery County, PA
| Philadelphia County, PA
38060 | Phoenix-Mesa-Scottsdale, AZ ¹ | 1.0009 | 1.0006
| Maricopa County, AZ
| Pinal County, AZ
38220 | Pine Bluff, AR | 0.8724 | 0.9108
| Cleveland County, AR
| Jefferson County, AR
| Lincoln County, AR
38300 | Pittsburgh, PA ¹ | 0.8743 | 0.9121
| Allegheny County, PA
| Armstrong County, PA
| Beaver County, PA
| Butler County, PA
| Fayette County, PA
| Washington County, PA
| Westmoreland County, PA
38340 | Pittsfield, MA | 1.0756 | 1.0512
| Berkshire County, MA
38540 | Pocatello, ID | 0.9615 | 0.9735
| Bannock County, ID
| Power County, ID
38660 | Ponce, PR | 0.5019 | 0.6237
| Juana Díaz Municipio, PR
| Ponce Municipio, PR
| Villalba Municipio, PR
38860 | Portland-South Portland-Biddeford, ME | 1.0127 | 1.0087
| Cumberland County, ME
| Sagadahoc County, ME
| York County, ME
38900 | Portland-Vancouver-Beaverton, OR-WA ¹ | 1.1384 | 1.0928
| Clackamas County, OR
| Columbia County, OR
| Multnomah County, OR
| Washington County, OR
| Yamhill County, OR
| Clark County, WA
| Skamania County, WA
38940 | Port St. Lucie-Fort Pierce, FL | 1.0117 | 1.0080
| Martin County, FL
| St. Lucie County, FL
39100 | Poughkeepsie-Newburgh-Middletown, NY | 1.1395 | 1.0935
| Dutchess County, NY
| Orange County, NY
39140 | Prescott, AZ | 0.9922 | 0.9947
| Yavapai County, AZ
39300 | Providence-New Bedford-Fall River, RI-MA ¹ | 1.0941 | 1.0635
| Bristol County, MA
| Bristol County, RI
| Kent County, RI
| Newport County, RI
| Providence County, RI
| Washington County, RI
39340 | ProvoOrem, UT | 0.9762 | 0.9836
| Juab County, UT
| Utah County, UT
39380 | Pueblo, CO ² | 0.9374 | 0.9567
| Pueblo County, CO
39460 | Punta Gorda, FL | 0.9473 | 0.9636
| Charlotte County, FL
39540 | Racine, WI ² | 0.9485 | 0.9644
| Racine County, WI
39580 | RaleighCary, NC | 1.0060 | 1.0041
| Franklin County, NC
| Johnston County, NC
| Wake County, NC
39660 | Rapid City, SD | 0.8947 | 0.9266
| Meade County, SD
| Pennington County, SD
39740 | Reading, PA | 0.9173 | 0.9426
| Berks County, PA
39820 | Redding, CA | 1.1856 | 1.1237
| Shasta County, CA
39900 | Reno-Sparks, NV | 1.0474 | 1.0322
| Storey County, NV
| Washoe County, NV
40060 | Richmond, VA ¹ | 0.9422 | 0.9600
| Amelia County, VA
| Caroline County, VA
| Charles City County, VA
| Chesterfield County, VA
| Cumberland County, VA
| Dinwiddie County, VA
| Goochland County, VA
| Hanover County, VA
| Henrico County, VA
| King and Queen County, VA
| King William County, VA
| Louisa County, VA
| New Kent County, VA
| Powhatan County, VA
| Prince George County, VA
| Sussex County, VA
| Colonial Heights City, VA
| Hopewell City, VA
| Petersburg City, VA
| Richmond City, VA
40140 | Riverside-San Bernardino-Ontario, CA ¹ | 1.0997 | 1.0672
| Riverside County, CA
| San Bernardino County, CA
40220 | Roanoke, VA | 0.8390 | 0.8867
| Botetourt County, VA
| Craig County, VA
| Franklin County, VA
| Roanoke County, VA
| Roanoke City, VA
| Salem City, VA
40340 | Rochester, MN | 1.1511 | 1.1012
| Dodge County, MN
| Olmsted County, MN
| Wabasha County, MN
40380 | Rochester, NY ¹ | 0.9307 | 0.9520
| Livingston County, NY
| Monroe County, NY
| Ontario County, NY
| Orleans County, NY
| Wayne County, NY
40420 | Rockford, IL | 0.9623 | 0.9740
| Boone County, IL
| Winnebago County, IL
40484 | Rockingham County-Strafford County, NH | 1.0232 | 1.0158
| Rockingham County, NH
| Strafford County, NH
40580 | Rocky Mount, NC | 0.9016 | 0.9315
| Edgecombe County, NC
| Nash County, NC
40660 | Rome, GA | 0.8877 | 0.9217
| Floyd County, GA
40900 | Sacramento-Arden-Arcade-Roseville, CA ¹ | 1.1709 | 1.1141
| El Dorado County, CA
| Placer County, CA
| Sacramento County, CA
| Yolo County, CA
40980 | Saginaw-Saginaw Township North, MI | 0.9879 | 0.9917
| Saginaw County, MI
41060 | St. Cloud, MN | 1.0193 | 1.0132
| Benton County, MN
| Stearns County, MN
41100 | St. George, UT | 0.9495 | 0.9651
| Washington County, UT
41140 | St. Joseph, MO-KS (MO Hospitals) ² | 0.8011 | 0.8591
| Doniphan County, KS
| Andrew County, MO
| Buchanan County, MO
| DeKalb County, MO
41140 | St. Joseph, MO-KS (KS Hospitals) ² | 0.8132 | 0.8680
| Doniphan County, KS
| Andrew County, MO
| Buchanan County, MO
| DeKalb County, MO
41180 | St. Louis, MO-IL | 0.9067 | 0.9351
| Bond County, IL
| Calhoun County, IL
| Clinton County, IL
| Jersey County, IL
| Macoupin County, IL
| Madison County, IL
| Monroe County, IL
| St. Clair County, IL
| Crawford County, MO
| Franklin County, MO
| Jefferson County, MO
| Lincoln County, MO
| St. Charles County, MO
| St. Louis County, MO
| Warren County, MO
| Washington County, MO
| St. Louis City, MO
41420 | Salem, OR | 1.0572 | 1.0388
| Marion County, OR
| Polk County, OR
41500 | Salinas, CA | 1.3946 | 1.2558
| Monterey County, CA
41540 | Salisbury, MD ² | 0.9248 | 0.9479
| Somerset County, MD
| Wicomico County, MD
41620 | Salt Lake City, UT | 0.9588 | 0.9716
| Salt Lake County, UT
| Summit County, UT
| Tooele County, UT
41660 | San Angelo, TX | 0.8194 | 0.8725
| Irion County, TX
| Tom Green County, TX
41700 | San Antonio, TX ¹ | 0.9021 | 0.9319
| Atascosa County, TX
| Bandera County, TX
| Bexar County, TX
| Comal County, TX
| Guadalupe County, TX
| Kendall County, TX
| Medina County, TX
| Wilson County, TX
41740 | San Diego-Carlsbad-San Marcos, CA ¹ | 1.1265 | 1.0850
| San Diego County, CA
41780 | Sandusky, OH | 0.9045 | 0.9336
| Erie County, OH
41884 | San Francisco-San Mateo-Redwood City, CA ¹ | 1.4403 | 1.2838
| Marin County, CA
| San Francisco County, CA
| San Mateo County, CA
41900 | San Germán-Cabo Rojo, PR | 0.5254 | 0.6436
| Cabo Rojo Municipio, PR
| Lajas Municipio, PR
| Sabana Grande Municipio, PR
| San Germán Municipio, PR
41940 | San Jose-Sunnyvale-Santa Clara, CA ¹ | 1.4543 | 1.2924
| San Benito County, CA
| Santa Clara County, CA
41980 | San Juan-Caguas-Guaynabo, PR ¹ | 0.4646 | 0.5916
| Aguas Buenas Municipio, PR
| Aibonito Municipio, PR
| Arecibo Municipio, PR
| Barceloneta Municipio, PR
| Barranquitas Municipio, PR
| Bayamón Municipio, PR
| Caguas Municipio, PR
| Camuy Municipio, PR
| Canóvanas Municipio, PR
| Carolina Municipio, PR
| Cataño Municipio, PR
| Cayey Municipio, PR
| Ciales Municipio, PR
| Cidra Municipio, PR
| Comerío Municipio, PR
| Corozal Municipio, PR
| Dorado Municipio, PR
| Florida Municipio, PR
| Guaynabo Municipio, PR
| Gurabo Municipio, PR
| Hatillo Municipio, PR
| Humacao Municipio, PR
| Juncos Municipio, PR
| Las Piedras Municipio, PR
| Loíza Municipio, PR
| Manatí Municipio, PR
| Maunabo Municipio, PR
| Morovis Municipio, PR
| Naguabo Municipio, PR
| Naranjito Municipio, PR
| Orocovis Municipio, PR
| Quebradillas Municipio, PR
| Río Grande Municipio, PR
| San Juan Municipio, PR
| San Lorenzo Municipio, PR
| Toa Alta Municipio, PR
| Toa Baja Municipio, PR
| Trujillo Alto Municipio, PR
| Vega Alta Municipio, PR
| Vega Baja Municipio, PR
| Yabucoa Municipio, PR
42020 | San Luis Obispo-Paso Robles, CA | 1.1140 | 1.0767
| San Luis Obispo County, CA
42044 | Santa Ana-Anaheim-Irvine, CA ¹ | 1.1728 | 1.1153
| Orange County, CA
42060 | Santa Barbara-Santa Maria-Goleta, CA | 1.0731 | 1.0495
| Santa Barbara County, CA
42100 | Santa Cruz-Watsonville, CA | 1.4786 | 1.3071
| Santa Cruz County, CA
42140 | Santa Fe, NM | 1.0913 | 1.0617
| Santa Fe County, NM
42220 | Santa Rosa-Petaluma, CA | 1.2958 | 1.1942
| Sonoma County, CA
42260 | Sarasota-Bradenton-Venice, FL | 0.9635 | 0.9749
| Manatee County, FL
| Sarasota County, FL
42340 | Savannah, GA | 0.9470 | 0.9634
| Bryan County, GA
| Chatham County, GA
| Effingham County, GA
42540 | Scranton-Wilkes-Barre, PA | 0.8529 | 0.8968
| Lackawanna County, PA
| Luzerne County, PA
| Wyoming County, PA
42644 | Seattle-Bellevue-Everett, WA ¹ | 1.1497 | 1.1002
| King County, WA
| Snohomish County, WA
43100 | Sheboygan, WI ² | 0.9485 | 0.9644
| Sheboygan County, WI
43300 | Sherman-Denison, TX | 0.9645 | 0.9756
| Grayson County, TX
43340 | Shreveport-Bossier City, LA | 0.9153 | 0.9412
| Bossier Parish, LA
| Caddo Parish, LA
| De Soto Parish, LA
43580 | Sioux City, IA-NE-SD | 0.9077 | 0.9358
| Woodbury County, IA
| Dakota County, NE
| Dixon County, NE
| Union County, SD
43620 | Sioux Falls, SD | 0.9438 | 0.9612
| Lincoln County, SD
| McCook County, SD
| Minnehaha County, SD
| Turner County, SD
43780 | South Bend-Mishawaka, IN-MI | 0.9458 | 0.9626
| St. Joseph County, IN
| Cass County, MI
43900 | Spartanburg, SC | 0.9035 | 0.9329
| Spartanburg County, SC
44060 | Spokane, WA | 1.0674 | 1.0457
| Spokane County, WA
44100 | Springfield, IL | 0.8754 | 0.9129
| Menard County, IL
| Sangamon County, IL
44140 | Springfield, MA ² | 1.0432 | 1.0294
| Franklin County, MA
| Hampden County, MA
| Hampshire County, MA
44180 | Springfield, MO | 0.8458 | 0.8916
| Christian County, MO
| Dallas County, MO
| Greene County, MO
| Polk County, MO
| Webster County, MO
44220 | Springfield, OH | 0.8763 | 0.9135
| Clark County, OH
44300 | State College, PA | 0.8486 | 0.8937
| Centre County, PA
44700 | Stockton, CA | 1.0605 | 1.0410
| San Joaquin County, CA
44844 | Suffolk-Nassau, NY ¹ | 1.2966 | 1.1947
| Nassau County, NY
| Suffolk County, NY
44940 | Sumter, SC ² | 0.8449 | 0.8910
| Sumter County, SC
45060 | Syracuse, NY | 0.9504 | 0.9658
| Madison County, NY
| Onondaga County, NY
| Oswego County, NY
45104 | Tacoma, WA | 1.1105 | 1.0744
| Pierce County, WA
45220 | Tallahassee, FL | 0.8690 | 0.9083
| Gadsden County, FL
| Jefferson County, FL
| Leon County, FL
| Wakulla County, FL
45300 | Tampa-St. Petersburg-Clearwater, FL ¹ | 0.9087 | 0.9365
| Hernando County, FL
| Hillsborough County, FL
| Pasco County, FL
| Pinellas County, FL
45460 | Terre Haute, IN ² | 0.8675 | 0.9072
| Clay County, IN
| Sullivan County, IN
| Vermillion County, IN
| Vigo County, IN
45500 | Texarkana, TX-Texarkana, AR | 0.8457 | 0.8916
| Miller County, AR
| Bowie County, TX
45780 | Toledo, OH | 0.9536 | 0.9680
| Fulton County, OH
| Lucas County, OH
| Ottawa County, OH
| Wood County, OH
45820 | Topeka, KS | 0.8915 | 0.9244
| Jackson County, KS
| Jefferson County, KS
| Osage County, KS
| Shawnee County, KS
| Wabaunsee County, KS
45940 | Trenton-Ewing, NJ | 1.0294 | 1.0200
| Mercer County, NJ
46060 | Tucson, AZ | 0.8971 | 0.9283
| Pima County, AZ
46140 | Tulsa, OK | 0.8709 | 0.9097
| Creek County, OK
| Okmulgee County, OK
| Osage County, OK
| Pawnee County, OK
| Rogers County, OK
| Tulsa County, OK
| Wagoner County, OK
46220 | Tuscaloosa, AL | 0.8358 | 0.8844
| Greene County, AL
| Hale County, AL
| Tuscaloosa County, AL
46340 | Tyler, TX | 0.9534 | 0.9678
| Smith County, TX
46540 | Utica-Rome, NY | 0.8339 | 0.8830
| Herkimer County, NY
| Oneida County, NY
46660 | Valdosta, GA | 0.8355 | 0.8842
| Brooks County, GA
| Echols County, GA
| Lanier County, GA
| Lowndes County, GA
46700 | Vallejo-Fairfield, CA | 1.4275 | 1.2760
| Solano County, CA
46940 | Vero Beach, FL | 0.9513 | 0.9664
| Indian River County, FL
47020 | Victoria, TX | 0.8491 | 0.8940
| Calhoun County, TX
| Goliad County, TX
| Victoria County, TX
47220 | Vineland-Millville-Bridgeton, NJ | 1.0604 | 1.0410
| Cumberland County, NJ
47260 | Virginia Beach-Norfolk-Newport News, VA-NC ¹ | 0.8941 | 0.9262
| Currituck County, NC
| Gloucester County, VA
| Isle of Wight County, VA
| James City County, VA
| Mathews County, VA
| Surry County, VA
| York County, VA
| Chesapeake City, VA
| Hampton City, VA
| Newport News City, VA
| Norfolk City, VA
| Poquoson City, VA
| Portsmouth City, VA
| Suffolk City, VA
| Virginia Beach City, VA
| Williamsburg City, VA
47300 | Visalia-Porterville, CA ² | 1.0440 | 1.0299
| Tulare County, CA
47380 | Waco, TX | 0.8167 | 0.8705
| McLennan County, TX
47580 | Warner Robins, GA | 0.8513 | 0.8956
| Houston County, GA
47644 | Warren-Farmington Hills-Troy, MI ¹ | 1.0131 | 1.0090
| Lapeer County, MI
| Livingston County, MI
| Macomb County, MI
| Oakland County, MI
| St. Clair County, MI
47894 | Washington-Arlington-Alexandria, DC-VA-MD-WV ¹ | 1.1063 | 1.0716
| District of Columbia, DC
| Calvert County, MD
| Charles County, MD
| Prince George's County, MD
| Arlington County, VA
| Clarke County, VA
| Fairfax County, VA
| Fauquier County, VA
| Loudoun County, VA
| Prince William County, VA
| Spotsylvania County, VA
| Stafford County, VA
| Warren County, VA
| Alexandria City, VA
| Fairfax City, VA
| Falls Church City, VA
| Fredericksburg City, VA
| Manassas City, VA
| Manassas Park City, VA
| Jefferson County, WV
47940 | Waterloo-Cedar Falls, IA | 0.8652 | 0.9056
| Black Hawk County, IA
| Bremer County, IA
| Grundy County, IA
48140 | Wausau, WI | 1.0121 | 1.0083
| Marathon County, WI
48260 | Weirton-Steubenville, WV-OH (OH Hospitals) ² | 0.8708 | 0.9096
| Jefferson County, OH
| Brooke County, WV
| Hancock County, WV
48260 | Weirton-Steubenville, WV-OH (WV Hospitals) | 0.8292 | 0.8796
| Jefferson County, OH
| Brooke County, WV
| Hancock County, WV
48300 | Wenatchee, WA ² | 1.0340 | 1.0232
| Chelan County, WA
| Douglas County, WA
48424 | West Palm Beach-Boca Raton-Boynton Beach, FL ¹ | 1.0074 | 1.0051
| Palm Beach County, FL
48540 | Wheeling, WV-OH (OH Hospitals) ² | 0.8708 | 0.9096
| Belmont County, OH
| Marshall County, WV
| Ohio County, WV
48540 | Wheeling, WV-OH (WV Hospitals) ² | 0.7903 | 0.8512
| Belmont County, OH
| Marshall County, WV
| Ohio County, WV
48620 | Wichita, KS | 0.9476 | 0.9638
| Butler County, KS
| Harvey County, KS
| Sedgwick County, KS
| Sumner County, KS
48660 | Wichita Falls, TX | 0.8379 | 0.8859
| Archer County, TX
| Clay County, TX
| Wichita County, TX
48700 | Williamsport, PA | 0.8432 | 0.8898
| Lycoming County, PA
48864 | Wilmington, DE-MD-NJ | 1.1110 | 1.0747
| New Castle County, DE
| Cecil County, MD
| Salem County, NJ
48900 | Wilmington, NC | 0.9248 | 0.9479
| Brunswick County, NC
| New Hanover County, NC
| Pender County, NC
49020 | Winchester, VA-WV | 1.0513 | 1.0349
| Frederick County, VA
| Winchester City, VA
| Hampshire County, WV
49180 | Winston-Salem, NC | 0.9430 | 0.9606
| Davie County, NC
| Forsyth County, NC
| Stokes County, NC
| Yadkin County, NC
49340 | Worcester, MA | 1.1034 | 1.0697
| Worcester County, MA
49420 | Yakima, WA | 1.0343 | 1.0234
| Yakima County, WA
49500 | Yauco, PR | 0.4505 | 0.5792
| Guánica Municipio, PR
| Guayanilla Municipio, PR
| Peñuelas Municipio, PR
| Yauco Municipio, PR
49620 | York-Hanover, PA | 0.8916 | 0.9244
| York County, PA
49660 | Youngstown-Warren-Boardman, OH-PA | 0.9257 | 0.9485
| Mahoning County, OH
| Trumbull County, OH
| Mercer County, PA
49700 | Yuba City, CA ² | 1.0440 | 1.0299
| Sutter County, CA
| Yuba County, CA
49740 | Yuma, AZ ² | 0.8967 | 0.9281
| Yuma County, AZ
¹ Large urban area.
² Hospitals geographically located in the area are assigned the statewide rural wage index for FY 2005.

5. On page 28586, in Table 4C—Wage Index and Capital Geographic Adjustment Factor (GAF) for Hospitals that are Reclassified, we incorrectly included two entries for Wilmington, N.C., the two entries for Wilmington, NC are deleted and the following two entries are added in their place:

Area | Wage index | GAF
Wilmington, DE | 1.0817 | 1.0553
Wilmington, NC | 0.9092 | 0.9369

6. On pages 28589 through 28628, Table 4G—Pre-Reclassified Wage Index for Urban Areas, is corrected to read as follows:

Table 4G—Pre-Reclassified Wage Index For Urban Areas
CBSA code | Urban area (constituent counties) | Wage index
10180 | Abilene, TX | 0.8011
| Callahan County, TX
| Jones County, TX
| Taylor County, TX
10380 | Aguadilla-Isabela-San Sebastián, PR | 0.4285
| Aguada Municipio, PR
| Aguadilla Municipio, PR
| Añasco Municipio, PR
| Isabela Municipio, PR
| Lares Municipio, PR
| Moca Municipio, PR
| Rincón Municipio, PR
| San Sebastián Municipio, PR
10420 | Akron, OH | 0.9065
| Portage County, OH
| Summit County, OH
10500 | Albany, GA | 1.1306
| Baker County, GA
| Dougherty County, GA
| Lee County, GA
| Terrell County, GA
| Worth County, GA
10580 | Albany-Schenectady-Troy, NY | 0.8685
| Albany County, NY
| Rensselaer County, NY
| Saratoga County, NY
| Schenectady County, NY
| Schoharie County, NY
10740 | Albuquerque, NM | 1.0167
| Bernalillo County, NM
| Sandoval County, NM
| Torrance County, NM
| Valencia County, NM
10780 | Alexandria, LA | 0.8198
| Grant Parish, LA
| Rapides Parish, LA
10900 | Allentown-Bethlehem-Easton, PA-NJ | 0.9539
| Warren County, NJ
| Carbon County, PA
| Lehigh County, PA
| Northampton County, PA
11020 | Altoona, PA | 0.8472
| Blair County, PA
11100 | Amarillo, TX | 0.9209
| Armstrong County, TX
| Carson County, TX
| Potter County, TX
| Randall County, TX
11180 | Ames, IA | 0.9503
| Story County, IA
11260 | Anchorage, AK | 1.2195
| Anchorage Municipality, AK
| Matanuska-Susitna Borough, AK
11300 | Anderson, IN | 0.8769
| Madison County, IN
11340 | Anderson, SC | 0.8689
| Anderson County, SC
11460 | Ann Arbor, MI | 1.1065
| Washtenaw County, MI
11500 | Anniston-Oxford, AL | 0.7916
| Calhoun County, AL
11540 | Appleton, WI | 0.9485
| Calumet County, WI
| Outagamie County, WI
11700 | Asheville, NC | 0.9217
| Buncombe County, NC
| Haywood County, NC
| Henderson County, NC
| Madison County, NC
12020 | Athens-Clarke County, GA | 1.0010
| Clarke County, GA
| Madison County, GA
| Oconee County, GA
| Oglethorpe County, GA
12060 | Atlanta-Sandy Springs-Marietta, GA | 0.9926
| Barrow County, GA
| Bartow County, GA
| Butts County, GA
| Carroll County, GA
| Cherokee County, GA
| Clayton County, GA
| Cobb County, GA
| Coweta County, GA
| Dawson County, GA
| DeKalb County, GA
| Douglas County, GA
| Fayette County, GA
| Forsyth County, GA
| Fulton County, GA
| Gwinnett County, GA
| Haralson County, GA
| Heard County, GA
| Henry County, GA
| Jasper County, GA
| Lamar County, GA
| Meriwether County, GA
| Newton County, GA
| Paulding County, GA
| Pickens County, GA
| Pike County, GA
| Rockdale County, GA
| Spalding County, GA
| Walton County, GA
12100 | Atlantic City, NJ | 1.0723
| Atlantic County, NJ
12220 | Auburn-Opelika, AL | 0.8231
| Lee County, AL
12260 | Augusta-Richmond County, GA-SC | 0.9169
| Burke County, GA
| Columbia County, GA
| McDuffie County, GA
| Richmond County, GA
| Aiken County, SC
| Edgefield County, SC
12420 | Austin-Round Rock, TX | 0.9619
| Bastrop County, TX
| Caldwell County, TX
| Hays County, TX
| Travis County, TX
| Williamson County, TX
12540 | Bakersfield, CA | 1.0440
| Kern County, CA
12580 | Baltimore-Towson, MD | 0.9904
| Anne Arundel County, MD
| Baltimore County, MD
| Carroll County, MD
| Harford County, MD
| Howard County, MD
| Queen Anne's County, MD
| Baltimore City, MD
12620 | Bangor, ME | 0.9960
| Penobscot County, ME
12700 | Barnstable Town, MA | 1.1965
| Barnstable County, MA
12940 | Baton Rouge, LA | 0.8344
| Ascension Parish, LA
| East Baton Rouge Parish, LA
| East Feliciana Parish, LA
| Iberville Parish, LA
| Livingston Parish, LA
| Pointe Coupee Parish, LA
| St. Helena Parish, LA
| West Baton Rouge Parish, LA
| West Feliciana Parish, LA
12980 | Battle Creek, MI | 0.9132
| Calhoun County, MI
13020 | Bay City, MI | 0.9601
| Bay County, MI
13140 | Beaumont-Port Arthur, TX | 0.8564
| Hardin County, TX
| Jefferson County, TX
| Orange County, TX
13380 | Bellingham, WA | 1.1695
| Whatcom County, WA
13460 | Bend, OR | 1.0623
| Deschutes County, OR
13644 | Bethesda-Frederick-Gaithersburg, MD | 1.0993
| Frederick County, MD
| Montgomery County, MD
13740 | Billings, MT | 0.8993
| Carbon County, MT
| Yellowstone County, MT
13780 | Binghamton, NY | 0.8484
| Broome County, NY
| Tioga County, NY
13820 | Birmingham-Hoover, AL | 0.9111
| Bibb County, AL
| Blount County, AL
| Chilton County, AL
| Jefferson County, AL
| St. Clair County, AL
| Shelby County, AL
| Walker County, AL
13900 | Bismarck, ND | 0.7741
| Burleigh County, ND
| Morton County, ND
13980 | Blacksburg-Christiansburg-Radford, VA | 0.8065
| Giles County, VA
| Montgomery County, VA
| Pulaski County, VA
| Radford City, VA
14020 | Bloomington, IN | 0.8675
| Greene County, IN
| Monroe County, IN
| Owen County, IN
14060 | Bloomington-Normal, IL | 0.9099
| McLean County, IL
14260 | Boise City-Nampa, ID | 0.9360
| Ada County, ID
| Boise County, ID
| Canyon County, ID
| Gem County, ID
| Owyhee County, ID
14484 | Boston-Quincy, MA | 1.1649
| Norfolk County, MA
| Plymouth County, MA
| Suffolk County, MA
14500 | Boulder, CO | 1.0072
| Boulder County, CO
14540 | Bowling Green, KY | 0.8162
| Edmonson County, KY
| Warren County, KY
14740 | Bremerton-Silverdale, WA | 1.0636
| Kitsap County, WA
14860 | Bridgeport-Stamford-Norwalk, CT | 1.2876
| Fairfield County, CT
14980 | Bristol, VA | 0.8065
| Washington County, VA
| Bristol City, VA
15180 | Brownsville-Harlingen, TX | 1.0178
| Cameron County, TX
15260 | Brunswick, GA | 1.1988
| Brantley County, GA
| Glynn County, GA
| McIntosh County, GA
15380 | Buffalo-Niagara Falls, NY | 0.9351
| Erie County, NY
| Niagara County, NY
15500 | Burlington, NC | 0.8881
| Alamance County, NC
15540 | Burlington-South Burlington, VT | 0.9378
| Chittenden County, VT
| Franklin County, VT
| Grand Isle County, VT
15764 | Cambridge-Newton-Framingham, MA | 1.1199
| Middlesex County, MA
15804 | Camden, NJ | 1.0683
| Burlington County, NJ
| Camden County, NJ
| Gloucester County, NJ
15940 | Canton-Massillon, OH | 0.8917
| Carroll County, OH
| Stark County, OH
15980 | Cape Coral-Fort Myers, FL | 0.9380
| Lee County, FL
16180 | Carson City, NV | 1.0362
| Carson City, NV
16220 | Casper, WY | 0.9301
| Natrona County, WY
16300 | Cedar Rapids, IA | 0.8987
| Benton County, IA
| Jones County, IA
| Linn County, IA
16580 | Champaign-Urbana, IL | 0.9539
| Champaign County, IL
| Ford County, IL
| Piatt County, IL
16620 | Charleston, WV | 0.8875
| Boone County, WV
| Clay County, WV
| Kanawha County, WV
| Lincoln County, WV
| Putnam County, WV
16700 | Charleston-North Charleston, SC | 0.9379
| Berkeley County, SC
| Charleston County, SC
| Dorchester County, SC
16740 | Charlotte-Gastonia-Concord, NC-SC | 0.9750
| Anson County, NC
| Cabarrus County, NC
| Gaston County, NC
| Mecklenburg County, NC
| Union County, NC
| York County, SC
16820 | Charlottesville, VA | 1.0317
| Albemarle County, VA
| Fluvanna County, VA
| Greene County, VA
| Nelson County, VA
| Charlottesville City, VA
16860 | Chattanooga, TN-GA | 0.9233
| Catoosa County, GA
| Dade County, GA
| Walker County, GA
| Hamilton County, TN
| Marion County, TN
| Sequatchie County, TN
16940 | Cheyenne, WY | 0.9190
| Laramie County, WY
16974 | Chicago-Naperville Joliet, IL | 1.0819
| Cook County, IL
| DeKalb County, IL
| DuPage County, IL
| Grundy County, IL
| Kane County, IL
| Kendall County, IL
| McHenry County, IL
| Will County, IL
17020 | Chico, CA | 1.0575
| Butte County, CA
17140 | Cincinnati-Middletown, OH-KY-IN | 0.9532
| Dearborn County, IN
| Franklin County, IN
| Ohio County, IN
| Boone County, KY
| Bracken County, KY
| Campbell County, KY
| Gallatin County, KY
| Grant County, KY
| Kenton County, KY
| Pendleton County, KY
| Brown County, OH
| Butler County, OH
| Clermont County, OH
| Hamilton County, OH
| Warren County, OH
17300 | Clarksville, TN-KY | 0.8027
| Christian County, KY
| Trigg County, KY
| Montgomery County, TN
| Stewart County, TN
17420 | Cleveland, TN | 0.7911
| Bradley County, TN
| Polk County, TN
17460 | Cleveland-Elyria-Mentor, OH | 0.9667
| Cuyahoga County, OH
| Geauga County, OH
| Lake County, OH
| Lorain County, OH
| Medina County, OH
17660 | Coeur d'Alene, ID | 0.9346
| Kootenai County, ID
17780 | College Station-Bryan, TX | 0.8505
| Brazos County, TX
| Burleson County, TX
| Robertson County, TX
17820 | Colorado Springs, CO | 0.9799
| El Paso County, CO
| Teller County, CO
17860 | Columbia, MO | 0.8352
| Boone County, MO
| Howard County, MO
17900 | Columbia, SC | 0.9071
| Calhoun County, SC
| Fairfield County, SC
| Kershaw County, SC
| Lexington County, SC
| Richland County, SC
| Saluda County, SC
17980 | Columbus, GA-AL | 0.8711
| Russell County, AL
| Chattahoochee County, GA
| Harris County, GA
| Marion County, GA
| Muscogee County, GA
18020 | Columbus, IN | 0.9472
| Bartholomew County, IN
18140 | Columbus, OH | 0.9757
| Delaware County, OH
| Fairfield County, OH
| Franklin County, OH
| Licking County, OH
| Madison County, OH
| Morrow County, OH
| Pickaway County, OH
| Union County, OH
18580 | Corpus Christi, TX | 0.8665
| Aransas County, TX
| Nueces County, TX
| San Patricio County, TX
18700 | Corvallis, OR | 1.0547
| Benton County, OR
19060 | Cumberland, MD-WV | 0.9248
| Allegany County, MD
| Mineral County, WV
19124 | Dallas-Plano-Irving, TX | 1.0092
| Collin County, TX
| Dallas County, TX
| Delta County, TX
| Denton County, TX
| Ellis County, TX
| Hunt County, TX
| Kaufman County, TX
| Rockwall County, TX
19140 | Dalton, GA | 0.9320
| Murray County, GA
| Whitfield County, GA
19180 | Danville, IL | 0.8418
| Vermilion County, IL
19260 | Danville, VA | 0.8792
| Pittsylvania County, VA
| Danville City, VA
19340 | Davenport-Moline-Rock Island, IA-IL | 0.8776
| Henry County, IL
| Mercer County, IL
| Rock Island County, IL
| Scott County, IA
19380 | Dayton, OH | 0.9320
| Greene County, OH
| Miami County, OH
| Montgomery County, OH
| Preble County, OH
19460 | Decatur, AL | 0.8915
| Lawrence County, AL
| Morgan County, AL
19500 | Decatur, IL | 0.8364
| Macon County, IL
19660 | Deltona-Daytona Beach-Ormond Beach, FL | 0.8668
| Volusia County, FL
19740 | Denver-Aurora, CO | 1.0911
| Adams County, CO
| Arapahoe County, CO
| Broomfield County, CO
| Clear Creek County, CO
| Denver County, CO
| Douglas County, CO
| Elbert County, CO
| Gilpin County, CO
| Jefferson County, CO
| Park County, CO
19780 | Des Moines, IA | 0.9288
| Dallas County, IA
| Guthrie County, IA
| Madison County, IA
| Polk County, IA
| Warren County, IA
19804 | Detroit-Livonia-Dearborn, MI | 1.0379
| Wayne County, MI
20020 | Dothan, AL | 0.7675
| Geneva County, AL
| Henry County, AL
| Houston County, AL
20100 | Dover, DE | 0.9579
| Kent County, DE
20220 | Dubuque, IA | 0.8748
| Dubuque County, IA
20260 | Duluth, MN-WI | 1.0449
| Carlton County, MN
| St. Louis County, MN
| Douglas County, WI
20500 | Durham, NC | 1.0312
| Chatham County, NC
| Durham County, NC
| Orange County, NC
| Person County, NC
20740 | Eau Claire, WI | 0.9485
| Chippewa County, WI
| Eau Claire County, WI
20764 | Edison, NJ | 1.1160
| Middlesex County, NJ
| Monmouth County, NJ
| Ocean County, NJ
| Somerset County, NJ
20940 | El Centro, CA | 1.0440
| Imperial County, CA
21060 | Elizabethtown, KY | 0.8713
| Hardin County, KY
| Larue County, KY
21140 | Elkhart-Goshen, IN | 0.9286
| Elkhart County, IN
21300 | Elmira, NY | 0.8488
| Chemung County, NY
21340 | El Paso, TX | 0.9210
| El Paso County, TX
21420 | Enid, OK | 0.9034
| Garfield County, OK
21500 | Erie, PA | 0.8708
| Erie County, PA
21604 | Essex County, MA | 1.0666
| Essex County, MA
21660 | Eugene-Springfield, OR | 1.0951
| Lane County, OR
21780 | Evansville, IN-KY | 0.8675
| Gibson County, IN
| Posey County, IN
| Vanderburgh County, IN
| Warrick County, IN
| Henderson County, KY
| Webster County, KY
21820 | Fairbanks, AK | 1.1761
| Fairbanks North Star Borough, AK
21940 | Fajardo, PR | 0.4014
| Ceiba Municipio, PR
| Fajardo Municipio, PR
| Luquillo Municipio, PR
22020 | Fargo, ND-MN | 0.9340
| Clay County, MN
| Cass County, ND
22140 | Farmington, NM | 0.8592
| San Juan County, NM
22180 | Fayetteville, NC | 0.9387
| Cumberland County, NC
| Hoke County, NC
22220 | Fayetteville-Springdale-Rogers, AR-MO | 0.8674
| Benton County, AR
| Madison County, AR
| Washington County, AR
| McDonald County, MO
22380 | Flagstaff, AZ | 1.0804
| Coconino County, AZ
22420 | Flint, MI | 1.1187
| Genesee County, MI
22460 | Florence-Muscle Shoals, AL | 0.7917
| Colbert County, AL
| Lauderdale County, AL
22500 | Florence, SC | 0.8540
| Darlington County, SC
| Florence County, SC
22540 | Fond du Lac, WI | 0.9921
| Fond du Lac County, WI
22660 | Fort Collins-Loveland, CO | 1.0142
| Larimer County, CO
22744 | Fort Lauderdale-Pompano Beach-Deerfield Beach, FL | 1.0180
| Broward County, FL
22900 | Fort Smith, AR-OK | 0.8311
| Crawford County, AR
| Franklin County, AR
| Sebastian County, AR
| Le Flore County, OK
| Sequoyah County, OK
23020 | Fort Walton Beach-Crestview-Destin, FL | 0.8805
| Okaloosa County, FL
23060 | Fort Wayne, IN | 0.9825
| Allen County, IN
| Wells County, IN
| Whitley County, IN
23104 | Fort Worth-Arlington, TX | 0.9515
| Johnson County, TX
| Parker County, TX
| Tarrant County, TX
| Wise County, TX
23420 | Fresno, CA | 1.0656
| Fresno County, CA
23460 | Gadsden, AL | 0.8090
| Etowah County, AL
23540 | Gainesville, FL | 0.8581
| Alachua County, FL
| Gilchrist County, FL
23580 | Gainesville, GA | 0.9584
| Hall County, GA
23844 | Gary, IN | 0.9328
| Jasper County, IN
| Lake County, IN
| Newton County, IN
| Porter County, IN
24020 | Glens Falls, NY | 0.8508
| Warren County, NY
| Washington County, NY
24140 | Goldsboro, NC | 0.8796
| Wayne County, NC
24220 | Grand Forks, ND-MN | 0.9340
| Polk County, MN
| Grand Forks County, ND
24300 | Grand Junction, CO | 0.9949
| Mesa County, CO
24340 | Grand Rapids-Wyoming, MI | 0.9457
| Barry County, MI
| Ionia County, MI
| Kent County, MI
| Newaygo County, MI
24500 | Great Falls, MT | 0.8894
| Cascade County, MT
24540 | Greeley, CO | 0.9486
| Weld County, CO
24580 | Green Bay, WI | 0.9602
| Brown County, WI
| Kewaunee County, WI
| Oconto County, WI
24660 | Greensboro-High Point, NC | 0.9228
| Guilford County, NC
| Randolph County, NC
| Rockingham County, NC
24780 | Greenville, NC | 0.9183
| Greene County, NC
| Pitt County, NC
24860 | Greenville, SC | 0.9287
| Greenville County, SC
| Laurens County, SC
| Pickens County, SC
25020 | Guayama, PR | 0.4015
| Arroyo Municipio, PR
| Guayama Municipio, PR
| Patillas Municipio, PR
25060 | Gulfport-Biloxi, MS | 0.8954
| Hancock County, MS
| Harrison County, MS
| Stone County, MS
25180 | Hagerstown-Martinsburg, MD-WV | 0.9765
| Washington County, MD
| Berkeley County, WV
| Morgan County, WV
25260 | Hanford-Corcoran, CA | 1.0440
| Kings County, CA
25420 | Harrisburg-Carlisle, PA | 0.9377
| Cumberland County, PA
| Dauphin County, PA
| Perry County, PA
25500 | Harrisonburg, VA | 0.9300
| Rockingham County, VA
| Harrisonburg City, VA
25540 | Hartford-West Hartford-East Hartford, CT | 1.1312
| Hartford County, CT
| Middlesex County, CT
| Tolland County, CT
25620 | Hattiesburg, MS | 0.7665
| Forrest County, MS
| Lamar County, MS
| Perry County, MS
25860 | Hickory-Lenoir-Morganton, NC | 0.9508
| Alexander County, NC
| Burke County, NC
| Caldwell County, NC
| Catawba County, NC
25980 | Hinesville-Fort Stewart, GA | 0.7774
| Liberty County, GA
| Long County, GA
26100 | Holland-Grand Haven, MI | 0.9482
| Ottawa County, MI
26180 | Honolulu, HI | 1.0997
| Honolulu County, HI
26300 | Hot Springs, AR | 0.9286
| Garland County, AR
26380 | Houma-Bayou Cane-Thibodaux, LA | 0.7779
| Lafourche Parish, LA
| Terrebonne Parish, LA
26420 | Houston-Baytown-Sugar Land, TX | 0.9995
| Austin County, TX
| Brazoria County, TX
| Chambers County, TX
| Fort Bend County, TX
| Galveston County, TX
| Harris County, TX
| Liberty County, TX
| Montgomery County, TX
| San Jacinto County, TX
| Waller County, TX
26580 | Huntington-Ashland, WV-KY-OH | 0.9585
| Boyd County, KY
| Greenup County, KY
| Lawrence County, OH
| Cabell County, WV
| Wayne County, WV
26620 | Huntsville, AL | 0.8850
| Limestone County, AL
| Madison County, AL
26820 | Idaho Falls, ID | 0.9062
| Bonneville County, ID
| Jefferson County, ID
26900 | Indianapolis, IN | 1.0102
| Boone County, IN
| Brown County, IN
| Hamilton County, IN
| Hancock County, IN
| Hendricks County, IN
| Johnson County, IN
| Marion County, IN
| Morgan County, IN
| Putnam County, IN
| Shelby County, IN
26980 | Iowa City, IA | 0.9663
| Johnson County, IA
| Washington County, IA
27060 | Ithaca, NY | 0.9795
| Tompkins County, NY
27100 | Jackson, MI | 0.9152
| Jackson County, MI
27140 | Jackson, MS | 0.8305
| Copiah County, MS
| Hinds County, MS
| Madison County, MS
| Rankin County, MS
| Simpson County, MS
27180 | Jackson, TN | 0.8912
| Chester County, TN
| Madison County, TN
27260 | Jacksonville, FL | 0.9561
| Baker County, FL
| Clay County, FL
| Duval County, FL
| Nassau County, FL
| St. Johns County, FL
27340 | Jacksonville, NC | 0.8587
| Onslow County, NC
27460 | Jamestown-Dunkirk-Fredonia, NY | 0.8180
| Chautauqua County, NY
27500 | Janesville, WI | 0.9618
| Rock County, WI
27620 | Jefferson City, MO | 0.8352
| Callaway County, MO
| Cole County, MO
| Moniteau County, MO
| Osage County, MO
27740 | Johnson City, TN | 0.7991
| Carter County, TN
| Unicoi County, TN
| Washington County, TN
27780 | Johnstown, PA | 0.8397
| Cambria County, PA
27860 | Jonesboro, AR | 0.8000
| Craighead County, AR
| Poinsett County, AR
27900 | Joplin, MO | 0.8746
| Jasper County, MO
| Newton County, MO
28020 | Kalamazoo-Portage, MI | 1.0714
| Kalamazoo County, MI
| Van Buren County, MI
28100 | Kankakee-Bradley, IL | 1.0551
| Kankakee County, IL
28140 | Kansas City, MO-KS | 0.9625
| Franklin County, KS
| Johnson County, KS
| Leavenworth County, KS
| Linn County, KS
| Miami County, KS
| Wyandotte County, KS
| Bates County, MO
| Caldwell County, MO
| Cass County, MO
| Clay County, MO
| Clinton County, MO
| Jackson County, MO
| Lafayette County, MO
| Platte County, MO
| Ray County, MO
28420 | Kennewick-Richland-Pasco, WA | 1.0530
| Benton County, WA
| Franklin County, WA
28660 | Killeen-Temple-Fort Hood, TX | 0.9301
| Bell County, TX
| Coryell County, TX
| Lampasas County, TX
28700 | Kingsport-Bristol-Bristol, TN-VA | 0.8257
| Hawkins County, TN
| Sullivan County, TN
| Scott County, VA
28740 | Kingston, NY | 0.8874
| Ulster County, NY
28940 | Knoxville, TN | 0.8585
| Anderson County, TN
| Blount County, TN
| Knox County, TN
| Loudon County, TN
| Union County, TN
29020 | Kokomo, IN | 0.9038
| Howard County, IN
| Tipton County, IN
29100 | La Crosse, WI-MN | 0.9340
| Houston County, MN
| La Crosse County, WI
29140 | Lafayette, IN | 0.9073
| Benton County, IN
| Carroll County, IN
| Tippecanoe County, IN
29180 | Lafayette, LA | 0.8319
| Lafayette Parish, LA
| St. Martin Parish, LA
29340 | Lake Charles, LA | 0.7921
| Calcasieu Parish, LA
| Cameron Parish, LA
29404 | Lake County-Kenosha County, IL-WI | 1.0342
| Lake County, IL
| Kenosha County, WI
29460 | Lakeland, FL | 0.8964
| Polk County, FL
29540 | Lancaster, PA | 0.9919
| Lancaster County, PA
29620 | Lansing-East Lansing, MI | 0.9675
| Clinton County, MI
| Eaton County, MI
| Ingham County, MI
29700 | Laredo, TX | 0.8293
| Webb County, TX
29740 | Las Cruces, NM | 0.8783
| Dona Ana County, NM
29820 | Las Vegas-Paradise, NV | 1.1380
| Clark County, NV
29940 | Lawrence, KS | 0.8132
| Douglas County, KS
30020 | Lawton, OK | 0.8264
| Comanche County, OK
30140 | Lebanon, PA | 0.8592
| Lebanon County, PA
30300 | Lewiston, ID-WA | 0.9325
| Nez Perce County, ID
| Asotin County, WA
30340 | Lewiston-Auburn, ME | 0.9613
| Androscoggin County, ME
30460 | Lexington-Fayette, KY | 0.9074
| Bourbon County, KY
| Clark County, KY
| Fayette County, KY
| Jessamine County, KY
| Scott County, KY
| Woodford County, KY
30620 | Lima, OH | 0.9330
| Allen County, OH
30700 | Lincoln, NE | 1.0206
| Lancaster County, NE
| Seward County, NE
30780 | Little Rock-North Little Rock, AR | 0.9032
| Faulkner County, AR
| Grant County, AR
| Lonoke County, AR
| Perry County, AR
| Pulaski County, AR
| Saline County, AR
30860 | Logan, UT-ID | 0.9102
| Franklin County, ID
| Cache County, UT
30980 | Longview, TX | 0.8823
| Gregg County, TX
| Rusk County, TX
| Upshur County, TX
31020 | Longview, WA | 1.0340
| Cowlitz County, WA
31084 | Los Angeles-Long Beach-Glendale, CA | 1.1730
| Los Angeles County, CA
31140 | Louisville, KY-IN | 0.9146
| Clark County, IN
| Floyd County, IN
| Harrison County, IN
| Washington County, IN
| Bullitt County, KY
| Henry County, KY
| Jefferson County, KY
| Meade County, KY
| Nelson County, KY
| Oldham County, KY
| Shelby County, KY
| Spencer County, KY
| Trimble County, KY
31180 | Lubbock, TX | 0.8798
| Crosby County, TX
| Lubbock County, TX
31340 | Lynchburg, VA | 0.9048
| Amherst County, VA
| Appomattox County, VA
| Bedford County, VA
| Campbell County, VA
| Bedford City, VA
| Lynchburg City, VA
31420 | Macon, GA | 0.9934
| Bibb County, GA
| Crawford County, GA
| Jones County, GA
| Monroe County, GA
| Twiggs County, GA
31460 | Madera, CA | 1.0440
| Madera County, CA
31540 | Madison, WI | 1.0325
| Columbia County, WI
| Dane County, WI
| Iowa County, WI
31700 | Manchester-Nashua, NH | 1.0573
| Hillsborough County, NH
31900 | Mansfield, OH | 0.9224
| Richland County, OH
32420 | Mayagüez, PR | 0.4453
| Hormigueros Municipio, PR
| Mayagüez Municipio, PR
32580 | McAllen-Edinburg-Pharr, TX | 0.8624
| Hidalgo County, TX
32780 | Medford, OR | 1.0561
| Jackson County, OR
32820 | Memphis, TN-MS-AR | 0.9250
| Crittenden County, AR
| DeSoto County, MS
| Marshall County, MS
| Tate County, MS
| Tunica County, MS
| Fayette County, TN
| Shelby County, TN
| Tipton County, TN
32900 | Merced, CA | 1.0440
| Merced County, CA
33124 | Miami-Miami Beach-Kendall, FL | 1.0045
| Miami-Dade County, FL
33140 | Michigan City-La Porte, IN | 0.9351
| LaPorte County, IN
33260 | Midland, TX | 0.9408
| Midland County, TX
33340 | Milwaukee-Waukesha-West Allis, WI | 1.0106
| Milwaukee County, WI
| Ozaukee County, WI
| Washington County, WI
| Waukesha County, WI
33460 | Minneapolis-St. Paul-Bloomington, MN-WI | 1.1074
| Anoka County, MN
| Carver County, MN
| Chisago County, MN
| Dakota County, MN
| Hennepin County, MN
| Isanti County, MN
| Ramsey County, MN
| Scott County, MN
| Sherburne County, MN
| Washington County, MN
| Wright County, MN
| Pierce County, WI
| St. Croix County, WI
33540 | Missoula, MT | 0.9610
| Missoula County, MT
33660 | Mobile, AL | 0.8017
| Mobile County, AL
33700 | Modesto, CA | 1.2007
| Stanislaus County, CA
33740 | Monroe, LA | 0.7928
| Ouachita Parish, LA
| Union Parish, LA
33780 | Monroe, MI | 0.9517
| Monroe County, MI
33860 | Montgomery, AL | 0.8312
| Autauga County, AL
| Elmore County, AL
| Lowndes County, AL
| Montgomery County, AL
34060 | Morgantown, WV | 0.8720
| Monongalia County, WV
| Preston County, WV
34100 | Morristown, TN | 0.7911
| Grainger County, TN
| Hamblen County, TN
| Jefferson County, TN
34580 | Mount Vernon-Anacortes, WA | 1.0581
| Skagit County, WA
34620 | Muncie, IN | 0.8675
| Delaware County, IN
34740 | Muskegon-Norton Shores, MI | 0.9770
| Muskegon County, MI
34820 | Myrtle Beach-Conway-North Myrtle Beach, SC | 0.8592
| Horry County, SC
34900 | Napa, CA | 1.2550
| Napa County, CA
34940 | Naples-Marco Island, FL | 1.0593
| Collier County, FL
34980 | Nashville-Davidson-Murfreesboro, TN | 1.0115
| Cannon County, TN
| Cheatham County, TN
| Davidson County, TN
| Dickson County, TN
| Hickman County, TN
| Macon County, TN
| Robertson County, TN
| Rutherford County, TN
| Smith County, TN
| Sumner County, TN
| Trousdale County, TN
| Williamson County, TN
| Wilson County, TN
35084 | Newark-Union, NJ-PA | 1.1708
| Essex County, NJ
| Hunterdon County, NJ
| Morris County, NJ
| Sussex County, NJ
| Union County, NJ
| Pike County, PA
35300 | New Haven-Milford, CT | 1.1828
| New Haven County, CT
35380 | New Orleans-Metairie-Kenner, LA | 0.9118
| Jefferson Parish, LA
| Orleans Parish, LA
| Plaquemines Parish, LA
| St. Bernard Parish, LA
| St. Charles Parish, LA
| St. John the Baptist Parish, LA
| St. Tammany Parish, LA
35644 | New York-Wayne-White Plains, NY-NJ | 1.3324
| Bergen County, NJ
| Hudson County, NJ
| Passaic County, NJ
| Bronx County, NY
| Kings County, NY
| New York County, NY
| Putnam County, NY
| Queens County, NY
| Richmond County, NY
| Rockland County, NY
| Westchester County, NY
35660 | Niles-Benton Harbor, MI | 0.8922
| Berrien County, MI
35980 | Norwich-New London, CT | 1.1625
| New London County, CT
36084 | Oakland-Fremont-Hayward, CA | 1.5251
| Alameda County, CA
| Contra Costa County, CA
36100 | Ocala, FL | 0.9194
| Marion County, FL
36140 | Ocean City, NJ | 1.0841
| Cape May County, NJ
36220 | Odessa, TX | 0.9822
| Ector County, TX
36260 | Ogden-Clearfield, UT | 0.9235
| Davis County, UT
| Morgan County, UT
| Weber County, UT
36420 | Oklahoma City, OK | 0.9005
| Canadian County, OK
| Cleveland County, OK
| Grady County, OK
| Lincoln County, OK
| Logan County, OK
| McClain County, OK
| Oklahoma County, OK
36500 | Olympia, WA | 1.1034
| Thurston County, WA
36540 | Omaha-Council Bluffs, NE-IA | 0.9765
| Harrison County, IA
| Mills County, IA
| Pottawattamie County, IA
| Cass County, NE
| Douglas County, NE
| Sarpy County, NE
| Saunders County, NE
| Washington County, NE
36740 | Orlando, FL | 0.9779
| Lake County, FL
| Orange County, FL
| Osceola County, FL
| Seminole County, FL
36780 | Oshkosh-Neenah, WI | 0.9485
| Winnebago County, WI
36980 | Owensboro, KY | 0.8470
| Daviess County, KY
| Hancock County, KY
| McLean County, KY
37100 | Oxnard-Thousand Oaks-Ventura, CA | 1.1130
| Ventura County, CA
37340 | Palm Bay-Melbourne-Titusville, FL | 0.9630
| Brevard County, FL
37460 | Panama City-Lynn Haven, FL | 0.8581
| Bay County, FL
37620 | Parkersburg-Marietta, WV-OH | 0.8708
| Washington County, OH
| Pleasants County, WV
| Wirt County, WV
| Wood County, WV
37700 | Pascagoula, MS | 0.7993
| George County, MS
| Jackson County, MS
37860 | Pensacola-Ferry Pass-Brent, FL | 0.8581
| Escambia County, FL
| Santa Rosa County, FL
37900 | Peoria, IL | 0.8792
| Marshall County, IL
| Peoria County, IL
| Stark County, IL
| Tazewell County, IL
| Woodford County, IL
37964 | Philadelphia, PA | 1.0880
| Bucks County, PA
| Chester County, PA
| Delaware County, PA
| Montgomery County, PA
| Philadelphia County, PA
38060 | Phoenix-Mesa-Scottsdale, AZ | 1.0009
| Maricopa County, AZ
| Pinal County, AZ
38220 | Pine Bluff, AR | 0.8724
| Cleveland County, AR
| Jefferson County, AR
| Lincoln County, AR
38300 | Pittsburgh, PA | 0.8743
| Allegheny County, PA
| Armstrong County, PA
| Beaver County, PA
| Butler County, PA
| Fayette County, PA
| Washington County, PA
| Westmoreland County, PA
38340 | Pittsfield, MA | 1.0756
| Berkshire County, MA
38540 | Pocatello, ID | 0.9615
| Bannock County, ID
| Power County, ID
38660 | Ponce, PR | 0.5019
| Juana Díaz Municipio, PR
| Ponce Municipio, PR
| Villalba Municipio, PR
38860 | Portland-South Portland-Biddeford, ME | 1.0127
| Cumberland County, ME
| Sagadahoc County, ME
| York County, ME
38900 | Portland-Vancouver-Beaverton, OR-WA | 1.1384
| Clackamas County, OR
| Columbia County, OR
| Multnomah County, OR
| Washington County, OR
| Yamhill County, OR
| Clark County, WA
| Skamania County, WA
38940 | Port St. Lucie-Fort Pierce, FL | 1.0077
| Martin County, FL
| St. Lucie County, FL
39100 | Poughkeepsie-Newburgh-Middletown, NY | 1.1395
| Dutchess County, NY
| Orange County, NY
39140 | Prescott, AZ | 0.9922
| Yavapai County, AZ
39300 | Providence-New Bedford-Fall River, RI-MA | 1.0941
| Bristol County, MA
| Bristol County, RI
| Kent County, RI
| Newport County, RI
| Providence County, RI
| Washington County, RI
39340 | Provo-Orem, UT | 0.9596
| Juab County, UT
| Utah County, UT
39380 | Pueblo, CO | 0.9374
| Pueblo County, CO
39460 | Punta Gorda, FL | 0.9473
| Charlotte County, FL
39540 | Racine, WI | 0.9485
| Racine County, WI
39580 | Raleigh-Cary, NC | 1.0060
| Franklin County, NC
| Johnston County, NC
| Wake County, NC
39660 | Rapid City, SD | 0.8947
| Meade County, SD
| Pennington County, SD
39740 | Reading, PA | 0.9173
| Berks County, PA
39820 | Redding, CA | 1.1856
| Shasta County, CA
39900 | Reno-Sparks, NV | 1.0474
| Storey County, NV
| Washoe County, NV
40060 | Richmond, VA | 0.9422
| Amelia County, VA
| Caroline County, VA
| Charles City County, VA
| Chesterfield County, VA
| Cumberland County, VA
| Dinwiddie County, VA
| Goochland County, VA
| Hanover County, VA
| Henrico County, VA
| King and Queen County, VA
| King William County, VA
| Louisa County, VA
| New Kent County, VA
| Powhatan County, VA
| Prince George County, VA
| Sussex County, VA
| Colonial Heights City, VA
| Hopewell City, VA
| Petersburg City, VA
| Richmond City, VA
40140 | Riverside-San Bernardino-Ontario, CA | 1.0997
| Riverside County, CA
| San Bernardino County, CA
40220 | Roanoke, VA | 0.8352
| Botetourt County, VA
| Craig County, VA
| Franklin County, VA
| Roanoke County, VA
| Roanoke City, VA
| Salem City, VA
40340 | Rochester, MN | 1.1511
| Dodge County, MN
| Olmsted County, MN
| Wabasha County, MN
40380 | Rochester, NY | 0.9307
| Livingston County, NY
| Monroe County, NY
| Ontario County, NY
| Orleans County, NY
| Wayne County, NY
40420 | Rockford, IL | 0.9623
| Boone County, IL
| Winnebago County, IL
40484 | Rockingham County-Strafford County, NH | 1.0232
| Rockingham County, NH
| Strafford County, NH
40580 | Rocky Mount, NC | 0.9016
| Edgecombe County, NC
| Nash County, NC
40660 | Rome, GA | 0.8877
| Floyd County, GA
40900 | Sacramento-Arden-Arcade-Roseville, CA | 1.1707
| El Dorado County, CA
| Placer County, CA
| Sacramento County, CA
| Yolo County, CA
40980 | Saginaw-Saginaw Township North, MI | 0.9879
| Saginaw County, MI
41060 | St. Cloud, MN | 1.0193
| Benton County, MN
| Stearns County, MN
41100 | St. George, UT | 0.9495
| Washington County, UT
41140 | St. Joseph, MO-KS
| Doniphan County, KS | 0.8010
| Andrew County, MO | 0.8132
| Buchanan County, MO
| DeKalb County, MO
| Hospitals located in Missouri
| Hospitals located in Kansas
41180 | St. Louis, MO-IL | 0.9067
| Bond County, IL
| Calhoun County, IL
| Clinton County, IL
| Jersey County, IL
| Macoupin County, IL
| Madison County, IL
| Monroe County, IL
| St. Clair County, IL
| Crawford County, MO
| Franklin County, MO
| Jefferson County, MO
| Lincoln County, MO
| St. Charles County, MO
| St. Louis County, MO
| Warren County, MO
| Washington County, MO
| St. Louis City, MO
41420 | Salem, OR | 1.0572
| Marion County, OR
| Polk County, OR
41500 | Salinas, CA | 1.3946
| Monterey County, CA
41540 | Salisbury, MD | 0.9248
| Somerset County, MD
| Wicomico County, MD
41620 | Salt Lake City, UT | 0.9588
| Salt Lake County, UT
| Summit County, UT
| Tooele County, UT
41660 | San Angelo, TX | 0.8194
| Irion County, TX
| Tom Green County, TX
41700 | San Antonio, TX | 0.9021
| Atascosa County, TX
| Bandera County, TX
| Bexar County, TX
| Comal County, TX
| Guadalupe County, TX
| Kendall County, TX
| Medina County, TX
| Wilson County, TX
41740 | San Diego-Carlsbad-San Marcos, CA | 1.1265
| San Diego County, CA
41780 | Sandusky, OH | 0.9045
| Erie County, OH
41884 | San Francisco-San Mateo-Redwood City, CA | 1.4403
| Marin County, CA
| San Francisco County, CA
| San Mateo County, CA
41900 | San Germán-Cabo Rojo, PR | 0.5254
| Cabo Rojo Municipio, PR
| Lajas Municipio, PR
| Sabana Grande Municipio, PR
| San German Municipio, PR
41940 | San Jose-Sunnyvale-Santa Clara, CA | 1.4543
| San Benito County, CA
| Santa Clara County, CA
41980 | San Juan-Caguas-Guaynabo, PR | 0.4646
| Aguas Buenas Municipio, PR
| Aibonito Municipio, PR
| Arecibo Municipio, PR
| Barceloneta Municipio, PR
| Barranquitas Municipio, PR
| Bayamon Municipio, PR
| Caguas Municipio, PR
| Camuy Municipio, PR
| Canovanas Municipio, PR
| Carolina Municipio, PR
| Catano Municipio, PR
| Cayey Municipio, PR
| Ciales Municipio, PR
| Cidra Municipio, PR
| Comerio Municipio, PR
| Corozal Municipio, PR
| Dorado Municipio, PR
| Florida Municipio, PR
| Guaynabo Municipio, PR
| Gurabo Municipio, PR
| Hatillo Municipio, PR
| Humacao Municipio, PR
| Juncos Municipio, PR
| Las Piedras Municipio, PR
| Loiza Municipio, PR
| Manati Municipio, PR
| Maunabo Municipio, PR
| Morovis Municipio, PR
| Naguabo Municipio, PR
| Naranjito Municipio, PR
| Orocovis Municipio, PR
| Quebradillas Municipio, PR
| Rio Grande Municipio, PR
| San Juan Municipio, PR
| San Lorenzo Municipio, PR
| Toa Alta Municipio, PR
| Toa Baja Municipio, PR
| Trujillo Alto Municipio, PR
| Vega Alta Municipio, PR
| Vega Baja Municipio, PR
| Yabucoa Municipio, PR
42020 | San Luis Obispo-Paso Robles, CA | 1.1140
| San Luis Obispo County, CA
42044 | Santa Ana-Anaheim-Irvine, CA | 1.1628
| Orange County, CA
42060 | Santa Barbara-Santa Maria-Goleta, CA | 1.0731
| Santa Barbara County, CA
42100 | Santa Cruz-Watsonville, CA | 1.4786
| Santa Cruz County, CA
42140 | Santa Fe, NM | 1.0913
| Santa Fe County, NM
42220 | Santa Rosa-Petaluma, CA | 1.2958
| Sonoma County, CA
42260 | Sarasota-Bradenton-Venice, FL | 0.9635
| Manatee County, FL
| Sarasota County, FL
42340 | Savannah, GA | 0.9470
| Bryan County, GA
| Chatham County, GA
| Effingham County, GA
42540 | Scranton-Wilkes-Barre, PA | 0.8529
| Lackawanna County, PA
| Luzerne County, PA
| Wyoming County, PA
42644 | Seattle-Bellevue-Everett, WA | 1.1497
| King County, WA
| Snohomish County, WA
43100 | Sheboygan, WI | 0.9485
| Sheboygan County, WI
43300 | Sherman-Denison, TX | 0.9645
| Grayson County, TX
43340 | Shreveport-Bossier City, LA | 0.9153
| Bossier Parish, LA
| Caddo Parish, LA
| De Soto Parish, LA
43580 | Sioux City, IA-NE-SD | 0.9077
| Woodbury County, IA
| Dakota County, NE
| Dixon County, NE
| Union County, SD
43620 | Sioux Falls, SD | 0.9438
| Lincoln County, SD
| McCook County, SD
| Minnehaha County, SD
| Turner County, SD
43780 | South Bend-Mishawaka, IN-MI | 0.9458
| St. Joseph County, IN
| Cass County, MI
43900 | Spartanburg, SC | 0.9035
| Spartanburg County, SC
44060 | Spokane, WA | 1.0674
| Spokane County, WA
44100 | Springfield, IL | 0.8754
| Menard County, IL
| Sangamon County, IL
44140 | Springfield, MA | 1.0432
| Franklin County, MA
| Hampden County, MA
| Hampshire County, MA
44180 | Springfield, MO | 0.8458
| Christian County, MO
| Dallas County, MO
| Greene County, MO
| Polk County, MO
| Webster County, MO
44220 | Springfield, OH | 0.8763
| Clark County, OH
44300 | State College, PA | 0.8486
| Centre County, PA
44700 | Stockton, CA | 1.0605
| San Joaquin County, CA
44844 | Suffolk-Nassau, NY | 1.2966
| Nassau County, NY
| Suffolk County, NY
44940 | Sumter, SC | 0.8449
| Sumter County, SC
45060 | Syracuse, NY | 0.9504
| Madison County, NY
| Onondaga County, NY
| Oswego County, NY
45104 | Tacoma, WA | 1.1105
| Pierce County, WA
45220 | Tallahassee, FL | 0.8690
| Gadsden County, FL
| Jefferson County, FL
| Leon County, FL
| Wakulla County, FL
45300 | Tampa-St. Petersburg-Clearwater, FL | 0.9087
| Hernando County, FL
| Hillsborough County, FL
| Pasco County, FL
| Pinellas County, FL
45460 | Terre Haute, IN | 0.8675
| Clay County, IN
| Sullivan County, IN
| Vermillion County, IN
| Vigo County, IN
45500 | Texarkana, TX-Texarkana, AR | 0.8432
| Miller County, AR
| Bowie County, TX
45780 | Toledo, OH | 0.9536
| Fulton County, OH
| Lucas County, OH
| Ottawa County, OH
| Wood County, OH
45820 | Topeka, KS | 0.8915
| Jackson County, KS
| Jefferson County, KS
| Osage County, KS
| Shawnee County, KS
| Wabaunsee County, KS
45940 | Trenton-Ewing, NJ | 1.0294
| Mercer County, NJ
46060 | Tucson, AZ | 0.8971
| Pima County, AZ
46140 | Tulsa, OK | 0.8709
| Creek County, OK
| Okmulgee County, OK
| Osage County, OK
| Pawnee County, OK
| Rogers County, OK
| Tulsa County, OK
| Wagoner County, OK
46220 | Tuscaloosa, AL | 0.8358
| Greene County, AL
| Hale County, AL
| Tuscaloosa County, AL
46340 | Tyler, TX | 0.9534
| Smith County, TX
46540 | Utica-Rome, NY | 0.8339
| Herkimer County, NY
| Oneida County, NY
46660 | Valdosta, GA | 0.8355
| Brooks County, GA
| Echols County, GA
| Lanier County, GA
| Lowndes County, GA
46700 | Vallejo-Fairfield, CA | 1.4275
| Solano County, CA
46940 | Vero Beach, FL | 0.9513
| Indian River County, FL
47020 | Victoria, TX | 0.8491
| Calhoun County, TX
| Goliad County, TX
| Victoria County, TX
47220 | Vineland-Millville-Bridgeton, NJ | 1.0604
| Cumberland County, NJ
47260 | Virginia Beach-Norfolk-Newport News, VA-NC | 0.8941
| Currituck County, NC
| Gloucester County, VA
| Isle of Wight County, VA
| James City County, VA
| Mathews County, VA
| Surry County, VA
| York County, VA
| Chesapeake City, VA
| Hampton City, VA
| Newport News City, VA
| Norfolk City, VA
| Poquoson City, VA
| Portsmouth City, VA
| Suffolk City, VA
| Virginia Beach City, VA
| Williamsburg City, VA
47300 | Visalia-Porterville, CA | 1.0440
| Tulare County, CA
47380 | Waco, TX | 0.8167
| McLennan County, TX
47580 | Warner Robins, GA | 0.8513
| Houston County, GA
47644 | Warren-Farmington Hills-Troy, MI | 1.0131
| Lapeer County, MI
| Livingston County, MI
| Macomb County, MI
| Oakland County, MI
| St. Clair County, MI
47894 | Washington-Arlington-Alexandria, DC-VA-MD-WV | 1.1063
| District of Columbia, DC
| Calvert County, MD
| Charles County, MD
| Prince George's County, MD
| Arlington County, VA
| Clarke County, VA
| Fairfax County, VA
| Fauquier County, VA
| Loudoun County, VA
| Prince William County, VA
| Spotsylvania County, VA
| Stafford County, VA
| Warren County, VA
| Alexandria City, VA
| Fairfax City, VA
| Falls Church City, VA
| Fredericksburg City, VA
| Manassas City, VA
| Manassas Park City, VA
| Jefferson County, WV
47940 | Waterloo-Cedar Falls, IA | 0.8652
| Black Hawk County, IA
| Bremer County, IA
| Grundy County, IA
48140 | Wausau, WI | 0.9645
| Marathon County, WI
48260 | Weirton-Steubenville, WV-OH | 0.8708
| Jefferson County, OH
| Brooke County, WV
| Hancock County, WV
48300 | Wenatchee, WA | 1.0340
| Chelan County, WA
| Douglas County, WA
48424 | West Palm Beach-Boca Raton-Boynton Beach, FL | 1.0074
| Palm Beach County, FL
48540 | Wheeling, WV-OH | 0.8708
| Belmont County, OH
| Marshall County, WV
| Ohio County, WV
48620 | Wichita, KS | 0.9476
| Butler County, KS
| Harvey County, KS
| Sedgwick County, KS
| Sumner County, KS
48660 | Wichita Falls, TX | 0.8379
| Archer County, TX
| Clay County, TX
| Wichita County, TX
48700 | Williamsport, PA | 0.8432
| Lycoming County, PA
48864 | Wilmington, DE-MD-NJ | 1.1110
| New Castle County, DE
| Cecil County, MD
| Salem County, NJ
48900 | Wilmington, NC | 0.9248
| Brunswick County, NC
| New Hanover County, NC
| Pender County, NC
49020 | Winchester, VA-WV | 1.0513
| Frederick County, VA
| Winchester City, VA
| Hampshire County, WV
49180 | Winston-Salem, NC | 0.9430
| Davie County, NC
| Forsyth County, NC
| Stokes County, NC
| Yadkin County, NC
49340 | Worcester, MA | 1.1034
| Worcester County, MA
49420 | Yakima, WA | 1.0343
| Yakima County, WA
49500 | Yauco, PR | 0.4505
| Guánica Municipio, PR
| Guayanilla Municipio, PR
| Peñuelas Municipio, PR
| Yauco Municipio, PR
49620 | York-Hanover, PA | 0.8916
| York County, PA
49660 | Youngstown-Warren-Boardman, OH-PA | 0.9257
| Mahoning County, OH
| Trumbull County, OH
| Mercer County, PA
49700 | Yuba City, CA | 1.0440
| Sutter County, CA
| Yuba County, CA
49740 | Yuma, AZ | 0.8967
| Yuma County, AZ

7. On page 28658, in Table 5—List of Diagnosis Related Groups (DRGs), Relative Weighting Factors, Geometric and Arithmetic Mean Length of Stay (LOS), correct the entry for DRG 483 to read as follows:

DRG | MDC | Type | DRG title | Relative weights | Geometric mean LOS | Arithmetic mean LOS
483 | PRE | SURG | No longer valid | 0.0000 | 0.0 | 0.0

8. On page 28660, in Table 5—List of Diagnosis Related Groups (DRGs), Relative Weighting Factors, Geometric and Arithmetic Mean Length of Stay (LOS), correct the entry for DRG 541 to read as follows:

DRG | MDC | Type | DRG Title | Relative weights | Geometric mean LOS | Arithmetic mean LOS
541 | PRE | SURG | TRACH W MV 96+ HRS OR PDX EXC FACE, MTH, & NECK DX W/MAJOR OR | 19.3416 | 37.7 | 44.9

9. On page 28662 through 28667, Table 6A.—New Diagnosis Codes is corrected to read as follows:

Table 6A.—New Diagnosis codes
Diagnosis Code | Description | CC | MDC | DRG
066.40 | West Nile Fever, unspecified | N | 18 | 421, 422
066.41 | West Nile Fever with encephalitis | N | 18 | 421, 422
066.42 | West Nile Fever with other neurologic manifestation | N | 18 | 421, 422
066.49 | West Nile Fever with other complications | N | 18 | 421, 422
070.70 | Unspecified viral hepatitis C without hepatic coma | Y | 7 | 205, 206
070.71 | Unspecified viral hepatitis C with hepatic coma | Y | 7 | 205, 206
252.00 | Hyperparathyroidism, unspecified | N | 10 | 300, 301
252.01 | Primary hyperparathyroidism | N | 10 | 300, 301
252.02 | Secondary hyperparathyroidism, non-renal | N | 10 | 300, 301
252.08 | Other hyperparathyroidism | N | 10 | 300, 301
273.4 | Alpha-1-antitrypsin deficiency | N | 10 | 299
277.85 | Disorders of fatty acid oxidation | N | 10 | 299
277.86 | Peroxisomal disorders | N | 10 | 299
277.87 | Disorders of mitochondrial metabolism | N | 10 | 299
347.00 | Narcolepsy, without cataplexy | N | 1 | 34, 35
347.01 | Narcolepsy, with cataplexy | N | 1 | 34, 35
347.10 | Narcolepsy in conditions classified elsewhere, without cataplexy | N | 1 | 34, 35
347.11 | Narcolepsy in conditions classified elsewhere, with cataplexy | N | 1 | 34, 35
380.03 | Chondritis of pinna | N | 8 | 256
453.40 | Venous embolism and thrombosis of unspecified deep vessels of lower extremity | Y | 5 | 130, 131
453.41 | Venous embolism and thrombosis of deep vessels of proximal lower extremity | Y | 5 | 130, 131
453.42 | Venous embolism and thrombosis of deep vessels of distal lower extremity | Y | 5 | 130, 131
477.2 | Allergic rhinitis, due to animal (cat) (dog) hair and dander | N | 3 | 68, 69, 70
491.22 | Obstructive chronic bronchitis with acute bronchitis | Y | 4 | 88
521.06 | Dental caries pit and fissure | N | PRE 3 | 482 185, 186, 187
521.07 | Dental caries of smooth surface | N | PRE 3 | 482 185, 186, 187
521.08 | Dental caries of root surface | N | PRE 3 | 482 185, 186, 187
521.10 | Excessive attrition, unspecified | N | PRE 3 | 482 185, 186, 187
521.11 | Excessive attrition, limited to enamel | N | PRE 3 | 482 185, 186, 187
521.12 | Excessive attrition, extending into dentine | N | PRE 3 | 482 185, 186, 187
521.13 | Excessive attrition, extending into pulp | N | PRE 3 | 482 185, 186, 187
521.14 | Excessive attrition, localized | N | PRE 3 | 482 185, 186, 187
521.15 | Excessive attrition, generalized | N | PRE 3 | 482 185, 186, 187
521.20 | Abrasion, unspecified | N | PRE 3 | 482 185, 186, 187
521.21 | Abrasion, limited to enamel | N | PRE 3 | 482 185, 186, 187
521.22 | Abrasion, extending into dentine | N | PRE 3 | 482 185, 186, 187
521.23 | Abrasion, extending into pulp | N | PRE 3 | 482 185, 186, 187
521.24 | Abrasion, localized | N | PRE 3 | 482 185, 186, 187
521.25 | Abrasion, generalized | N | PRE 3 | 482 185, 186, 187
521.30 | Erosion, unspecified | N | PRE 3 | 482 185, 186, 187
521.31 | Erosion, limited to enamel | N | PRE 3 | 482 185, 186, 187
521.32 | Erosion, extending into dentine | N | PRE 3 | 482 185, 186, 187
521.33 | Erosion, extending into pulp | N | PRE 3 | 482 185, 186, 187
521.34 | Erosion, localized | N | PRE 3 | 482 185, 186, 187
521.35 | Erosion, generalized | N | PRE 3 | 482 185, 186, 187
521.40 | Pathological resorption, unspecified | N | PRE 3 | 482 185, 186, 187
521.41 | Pathological resorption, internal | N | PRE 3 | 482 185, 186, 187
521.42 | Pathological resorption, external | N | PRE 3 | 482 185, 186, 187
521.49 | Other pathological resorption | N | PRE 3 | 482 185, 186, 187
523.20 | Gingival recession, unspecified | N | PRE 3 | 482 185, 186, 187
523.21 | Gingival recession, minimal | N | PRE 3 | 482 185, 186, 187
523.22 | Gingival recession, moderate | N | PRE 3 | 482 185, 186, 187
523.23 | Gingival recession, severe | N | PRE 3 | 482 185, 186, 187
523.24 | Gingival recession, localized | N | PRE 3 | 482 185, 186, 187
523.25 | Gingival recession, generalized | N | PRE 3 | 482 185, 186, 187
524.07 | Excessive tuberosity of jaw | N | PRE 3 | 482 185, 186, 187
524.20 | Unspecified anomaly of dental arch relationship | N | PRE 3 | 482 185, 186, 187
524.21 | Angle's class I | N | PRE 3 | 482 185, 186, 187
524.22 | Angle's class II | N | PRE 3 | 482 185, 186, 187
524.23 | Angle's class III | N | PRE 3 | 482 185, 186, 187
524.24 | Open anterior occlusal relationship | N | PRE 3 | 482 185, 186, 187
524.25 | Open posterior occlusal relationship | N | PRE 3 | 482 185, 186, 187
524.26 | Excessive horizontal overlap | N | PRE 3 | 482 185, 186, 187
524.27 | Reverse articulation | N | PRE 3 | 482 185, 186, 187
524.28 | Anomalies of interarch distance | N | PRE 3 | 482 185, 186, 187
524.29 | Other anomalies of dental arch relationship | N | PRE 3 | 482 185, 186, 187
524.30 | Unspecified anomaly of tooth position | N | PRE 3 | 482 185, 186, 187
524.31 | Crowding of teeth | N | PRE 3 | 482 185, 186, 187
524.32 | Excessive spacing of teeth | N | PRE 3 | 482 185, 186, 187
524.33 | Horizontal displacement of teeth | N | PRE 3 | 482 185, 186, 187
524.34 | Vertical displacement of teeth | N | PRE 3 | 482 185, 186, 187
524.35 | Rotation of teeth | N | PRE 3 | 482 185, 186, 187
524.36 | Insufficient interocclusal distance of teeth (ridge) | N | PRE 3 | 482 185, 186, 187
524.37 | Excessive interocclusal distance of teeth | N | PRE 3 | 482 185, 186, 187
524.39 | Other anomalies of tooth position | N | PRE 3 | 482 185, 186, 187
524.50 | Dentofacial functional abnormality, unspecified | N | PRE 3 | 482 185, 186, 187
524.51 | Abnormal jaw closure | N | PRE 3 | 482 185, 186, 187
524.52 | Limited mandibular range of motion | N | PRE 3 | 482 185, 186, 187
524.53 | Deviation in opening and closing of the mandible | N | PRE 3 | 482 185, 186, 187
524.54 | Insufficient anterior guidance | N | PRE 3 | 482 185, 186, 187
524.55 | Centric occlusion maximum intercuspation discrepancy | N | PRE 3 | 482 185, 186, 187
524.56 | Nonworking side interference | N | PRE 3 | 482 185, 186, 187
524.57 | Lack of posterior occlusal support | N | PRE 3 | 482 185, 186, 187
524.59 | Other dentofacial functional abnormalities | N | PRE 3 | 482 185, 186, 187
524.64 | Temporomandibular joint sounds on opening and/or closing the jaw | N | PRE 3 | 482 185, 186, 187
524.75 | Vertical displacement of alveolus and teeth | N | PRE 3 | 482 185, 186, 187
524.76 | Occlusal plane deviation | N | PRE 3 | 482 185, 186, 187
524.81 | Anterior soft tissue impingement | N | PRE 3 | 482 185, 186, 187
524.82 | Posterior soft tissue impingement | N | PRE 3 | 482 185, 186, 187
524.89 | Other specified dentofacial anomalies | N | PRE 3 | 482 185, 186, 187
525.20 | Unspecified atrophy of edentulous alveolar ridge | N | PRE 3 | 482 185, 186, 187
525.21 | Minimal atrophy of the mandible | N | PRE 3 | 482 185, 186, 187
525.22 | Moderate atrophy of the mandible | N | PRE 3 | 482 185, 186, 187
525.23 | Severe atrophy of the mandible | N | PRE 3 | 482 185, 186, 187
525.24 | Minimal atrophy of the maxilla | N | PRE 3 | 482 185, 186, 187
525.25 | Moderate atrophy of the maxilla | N | PRE 3 | 482 185, 186, 187
525.26 | Severe atrophy of the maxilla | N | PRE 3 | 482 185, 186, 187
528.71 | Minimal keratinized residual ridge mucosa | N | PRE 3 | 482 185, 186, 187
528.72 | Excessive keratinized residual ridge mucosa | N | PRE 3 | 482 185, 186, 187
528.79 | Other disturbances of oral epithelium, including tongue | N | PRE 3 | 482 185, 186, 187
530.86 | Infection of esophagostomy | Y | 6 | 188, 189, 190
530.87 | Mechanical complication of esophagostomy | Y | 6 | 188, 189, 190
588.81 | Secondary hyperparathyroidism (of renal origin) | N | 11 | 331, 332, 333
588.89 | Other specified disorders resulting from impaired renal function | N | 11 | 331, 332, 333
618.00 | Unspecified prolapse of vaginal walls | N | 13 | 358, 359, 369
618.01 | Cystocele, midline | N | 13 | 358, 359, 369
618.02 | Cystocele, lateral | N | 13 | 358, 359, 369
618.03 | Urethrocele | N | 13 | 358, 359, 369
618.04 | Rectocele | N | 13 | 358, 359, 369
618.05 | Perineocele | N | 13 | 358, 359, 369
618.09 | Other prolapse of vaginal walls without mention of uterine prolapse | N | 13 | 358, 359, 369
618.81 | Incompetence or weakening of pubocervical tissue | N | 13 | 358, 359, 369
618.82 | Incompetence or weakening of rectovaginal tissue | N | 13 | 358, 359, 369
618.83 | Pelvic muscle wasting | N | 13 | 358, 359, 369
618.89 | Other specified genital prolapse | N | 13 | 358, 359, 369
621.30 | Endometrial hyperplasia, unspecified | N | 13 | 358, 359, 369
621.31 | Simple endometrial hyperplasia without atypia | N | 13 | 358, 359, 369
621.32 | Complex endometrial hyperplasia without atypia | N | 13 | 358, 359, 369
621.33 | Endometrial hyperplasia with atypia | N | 13 | 358, 359, 369
622.10 | Dysplasia of cervix, unspecified | N | 13 | 358, 359, 369
622.11 | Mild dysplasia of cervix | N | 13 | 358, 359, 369
622.12 | Moderate dysplasia of cervix | N | 13 | 358, 359, 369
629.20 | Female genital mutilation status, unspecified | N | 13 | 358, 359, 369
629.21 | Female genital mutilation Type I status | N | 13 | 358, 359, 369
629.22 | Female genital mutilation Type II status | N | 13 | 358, 359, 369
629.23 | Female genital mutilation Type III status | N | 13 | 358, 359, 369
692.84 | Contact dermatitis and other eczema due to animal (cat) (dog) dander | N | 9 | 283, 284
705.21 | Primary focal hyperhidrosis | N | 9 | 283, 284
705.22 | Secondary focal hyperhidrosis | N | 9 | 283, 284
707.00 | Decubitus ulcer, unspecified site | Y | 5 9 | 121 ¹ 263, 264, 271
707.01 | Decubitus ulcer, elbow | Y | 5 9 | 121 ¹ 263, 264, 271
707.02 | Decubitus ulcer, upper back | Y | 5 9 | 121 ¹ 263, 264, 271
707.03 | Decubitus ulcer, lower back | Y | 5 9 | 121 ¹ 263, 264, 271
707.04 | Decubitus ulcer, hip | Y | 5 9 | 121 ¹ 263, 264, 271
707.05 | Decubitus ulcer, buttock | Y | 5 9 | 121 ¹ 263, 264, 271
707.06 | Decubitus ulcer, ankle | Y | 5 9 | 121 ¹ 263, 264, 271
707.07 | Decubitus ulcer, heel | Y | 5 9 | 121 ¹ 263, 264, 271
707.09 | Decubitus ulcer, other site | Y | 5 9 | 121 ¹ 263, 264, 271
758.31 | Cri-du-chat syndrome | N | 19 | 429
758.32 | Velo-cardio-facial syndrome | N | 19 | 429
758.33 | Other microdeletions | N | 19 | 429
758.39 | Other autosomal deletions | N | 19 | 429
780.58 | Sleep related movement disorder | N | 19 | 432
788.38 | Overflow incontinence | N | 11 | 325, 326, 327
790.95 | Elevated C-reactive protein (CRP) | N | 23 | 463, 464
795.03 | Papanicolaou smear of cervix with low grade squamous intraepithelial lesion (LGSIL) | N | 13 | 358, 359, 369
795.04 | Papanicolaou smear of cervix with high grade squamous intraepithelial lesion (HGSIL) | N | 13 | 358, 359, 369
795.05 | Cervical high risk human papillomavirus (HPV) DNA test positive | N | 13 | 358, 359, 369
795.08 | Nonspecific abnormal papanicolaou smear of cervix, unsatisfactory smear | N | 13 | 358, 359, 369
796.6 | Nonspecific abnormal findings on neonatal screening | N | 23 | 463, 464
V01.71 | Contact or exposure to varicella | N | 23 | 467
V01.79 | Contact or exposure to other viral diseases | N | 23 | 467
V01.83 | Contact or exposure to escherichia coli (E. coli) | N | 23 | 467
V01.84 | Contact or exposure to meningococcus | N | 23 | 467
V46.11 | Dependence on respirator, status | Y | 23 | 467
V46.12 | Encounter for respirator dependence during power failure | Y | 23 | 467
V49.83 | Awaiting organ transplant status | Y | 23 | 467
V58.44 | Aftercare following organ transplant | N | 23 | 465-466
V58.66 | Longterm (current) use of aspirin | N | 23 | 465-466
V58.67 | Longterm (current) use of insulin | N | 23 | 465-466
V69.4 | Lack of adequate sleep | N | 23 | 467
V72.31 | Routine gynecological examination | N | 23 | 467
V72.32 | Encounter for Papanicolaou cervical smear to confirm findings of recent normal smear following initial abnormal smear | N | 23 | 467
V72.40 | Pregnancy examination or test, pregnancy unconfirmed | N | 23 | 467
V72.41 | Pregnancy examination or test, negative result | N | 23 | 467
V84.01 | Genetic susceptibility to malignant neoplasm of breast | N | 23 | 467
V84.02 | Genetic susceptibility to malignant neoplasm of ovary | N | 23 | 467
V84.03 | Genetic susceptibility to malignant neoplasm of prostate | N | 23 | 467
V84.04 | Genetic susceptibility to malignant neoplasm of endometrium | N | 23 | 467
V84.09 | Genetic susceptibility to other malignant neoplasm | N | 23 | 467
V84.8 | Genetic susceptibility to other disease | N | 23 | 467
¹ Assigned to the secondary diagnosis list that defines a major complication.

10. On page 28671 through 28674, Table 6B—New Procedure Codes is corrected to read as follows:

Table 6B.—New Procedures Codes
Procedure code | Description | OR | MDC | DRG
00.16 | Pressurized treatment of venous bypass graft [conduit] with pharmaceutical substance | N |  |
00.17 | Infusion of vasopressor agent | N |  |
00.21 | Intravascular imaging of extracranial cerebral vessels | N |  |
00.22 | Intravascular imaging of intrathoracic vessels | N |  |
00.23 | Intravascular imaging of peripheral vessels | N |  |
00.24 | Intravascular imaging of coronary vessels | N |  |
00.25 | Intravascular imaging of renal vessels | N |  |
00.28 | Intravascular imaging, other specified vessels(s) | N |  |
00.29 | Intravascular imaging, unspecified vessels(s) | N |  |
00.31 | Computer assisted surgery with CT/CTA | N |  |
00.32 | Computer assisted surgery with MR/MRA | N |  |
00.33 | Computer assisted surgery with fluoroscopy | N |  |
00.34 | Imageless computer assisted surgery | N |  |
00.35 | Computer assisted surgery with multiple datasets | N |  |
00.39 | Other computer assisted surgery | N |  |
00.61 | Percutaneous angioplasty or atherectomy precerebral (extracranial) vessel(s) | Y | 1 5 21 24 | 533, 534 478, 479 442, 443 486
00.62 | Percutaneous angioplasty or atherectomy of intracranial vessel(s) | Y | 1 5 21 24 | 533, 534 478, 479 442, 443 486
00.63 | Percutaneous insertion of carotid artery stent(s) | N |  |
00.64 | Percutaneous insertion of other precerebral (extracranial) artery stent(s) | N |  |
00.65 | Percutaneous insertion of intracranial vascular stent(s) | N |  |
00.91 | Transplant from live related donor | N |  |
00.92 | Transplant from live nonrelated donor | N |  |
00.93 | Transplant from cadaver | N |  |
27.64 | Insertion of palatal implant | N |  |
37.68 | Insertion of percutaneous external heart assist device | Y | 5 | 104, 105
37.90 | Insertion of left atrial appendage | N* | 5 | 518
44.38 | Laparoscopic gastroenterostomy | Y | 5 6 7 10 17 | 120 154, 155, 156 201 288 406, 407, 539, 540
44.67 | Laparoscopic procedures for creation of esophagogastric sphincteric competene | Y | 6 21 24 | 154, 155, 156 442, 443 486
44.68 | Laparoscopic gastroplasty | Y | 6 10 21 24 | 154, 155, 156 288 442, 443 486
44.95 | Laparoscopic gastric restrictive procedure | Y | 10 | 288
44.96 | Laparoscopic revision of gastric | Y | 10 | 288
44.97 | Laparoscopic removal of gastric restrictive device(s) | Y | 10 | 288
44.98 | (Laparoscopic) adjustment of size of adjustable gastric restrictive device | Y | 10 | 288
81.65 | Vertebroplasty | Y | 8 21 24 | 233, 234 442, 443 486
81.66 | Kyphoplasty | Y | 8 21 24 | 233, 234 442, 443 486
84.53 | Implantation of internal limb lenthening device with kinetic distraction | N |  |
84.54 | Implantation of other internal limb lengthening device | N |  |
84.55 | Insertion of bone void filler | N |  |
84.59 | Insertion of other spinal devices | Y | 1 8 21 24 | 531, 532 499, 500 442, 443 486
84.60 | Insertion of spinal disc prosthesis, not ohterwise specified | Y | 1 8 21 24 | 531, 532 499, 500 442, 443 486
84.61 | Insertion of partial spinal disc prosthesis, cervical | Y | 1 8 21 24 | 531, 532 499, 500 442, 443 486
84.62 | Insertion of total spinal disc prosthesis, cervical | Y | 1 8 21 24 | 531, 532 499, 500 442, 443 486
84.63 | Insertion of spinal disc prosthesis, thoracic | Y | 1 8 21 24 | 531, 532 499, 500 442, 443 486
84.64 | Insertion of partial spinal disc prosthesis, lumbosacral | Y | 1 8 21 24 | 531, 532 499, 500 442, 443 4861
84.65 | Insertion of total spinal disc prosthesis, lumbosacral | Y | 1 8 21 24 | 531, 532 499, 500 442, 443 486
84.66 | Revision or replacement of artificial spinal disc prosthesis, cervical | Y | 1 8 21 24 | 531, 532 499, 500 442, 443 486
84.67 | Revision or replacement of artificial spinal disc prosthesis, thoracic | Y | 1 8 21 24 | 531, 532 499, 500 442, 443 486
84.68 | Revision or replacement of artifical spinal disc prosthesis, lumbosacral | Y | 1 8 21 24 | 531, 532 499, 500 442, 443 486
84.69 | Revision or replacement of artificial spinal disc prosthesis, not otherwise specified | Y | 1 8 21 24 | 531, 532 499, 500 442, 443 486
86.94 | Insertion or replacement of single array neurostimulator pulse generator | Y | 1 | 7, 8
86.95 | Insertion or replacement of dual array neurostimulator pulse generator | Y | 1 | 7, 8
86.96 | Insertion or replacement of other neurostimulator pulse generator | Y | 1 | 7, 8
89.49 | Automatic implantable cardioverter/defibrillator (AICD) check | N |  |
99.78 | Aquapheresis | N |  |
* Non-operating room procedure, but affects DRG assignment.

11. On page 28680, in the Table 6E.—Revised Diagnosis Code Titles, in the fourth row, the entry codes for diagnosis code 250.63 should read:

Diagnosis code | Description | CC | MDC | DRG
250.63 | Diabetes with neurological manifestations, type I [juvenile type],uncontrolled | Y | PRE 1 | 512, 513 18, 19

12. On pages 28768 through 28770, Table 9B.—Hospital Reclassifications and Redesignations by Individual Hospital under Section 508 of Pub. L. 108-173—FY 2004, is Corrected to read as follows:

Table 9B.—Hospital Reclassifications and Redesignations by Individual Hospital Under Section 508 of Public Law 108-173—FY 2004
Provider No. | Actual MSA or rural area | Wage index MSA 508 reclassification | Actual CBSA or rural area | Wage index CBSA 508 reclassification | Nearest county | Own wage index
020008 |  |  | 02 |  |  | 1.3157
060075 |  |  | 06 |  |  | 1.1681
070036 |  |  | 25540 |  |  | 1.2954
160064 |  |  | 16 |  |  | 1.0504
330106 |  |  | 44844 |  |  | 1.5152
380090 |  |  | 38 |  |  | 1.2808
410010 |  |  | 39300 |  |  | 1.1702
530015 |  |  | 53 |  |  | 1.0064
010150 | 01 | 1800 | 01 | 17980
050494 | 05 | 7500 | 05 | 42220
050549 | 8735 | 7500 | 37100 | 42220
060057 | 06 | 2080 | 06 | 19740
070001 | 5483 | 5380 | 35300 | 44844
070005 | 5483 | 5380 | 35300 | 44844
070010 | 5483 | 5600 | 14860 | 35644
070016 | 5483 | 5380 | 35300 | 44844
070017 | 5483 | 5380 | 35300 | 44844
070019 | 5483 | 5380 | 35300 | 44844
070022 | 5483 | 5380 | 35300 | 44844
070028 | 5483 | 5600 | 14860 | 35644
070031 | 5483 | 5380 | 35300 | 44844
070039 | 5483 | 5380 | 35300 | 44844
120025 | 12 | 3320 | 12 | 26180
150034 | 2960 | 1600 | 23844 | 16974 | Cook
160040 | 8920 | 1360 | 47940 | 16300
160067 | 8920 | 1360 | 47940 | 16300
160110 | 8920 | 1360 | 47940 | 16300
190218 | 19 | 7680 | 19 | 43340 | Caddo
220046 | 6323 | 1123 | 38340 | 49340 | Worcester
230003 | 3000 | 3720 | 26100 | 28020 | Van Buren
230004 | 3000 | 3720 | 34740 | 28020 | Van Buren
230013 | 2160 | 2640 | 47644 | 22420
230019 | 2160 | 2640 | 47644 | 22420
230020 | 2160 | 0440 | 19804 | 11460 | Washtenaw
230024 | 2160 | 0440 | 19804 | 11460 | Washtenaw
230029 | 2160 | 2640 | 47644 | 22420
230036 | 23 | 2640 | 23 | 22420
230038 | 3000 | 3720 | 24340 | 28020 | Kalamazoo
230053 | 2160 | 0440 | 19804 | 11460 | Washtenaw
230059 | 3000 | 3720 | 24340 | 28020 | Kalamazoo
230066 | 3000 | 3720 | 34740 | 28020 | Van Buren
230071 | 2160 | 2640 | 47644 | 22420
230072 | 3000 | 3720 | 26100 | 28020 | Van Buren
230089 | 2160 | 0440 | 19804 | 11460 | Washtenaw
230092 | 3520 | 3000 | 27100 | 24340 | Kent
230097 | 23 | 3720 | 23 | 28020 | Kalamazoo
230104 | 2160 | 0440 | 19804 | 11460 | Washtenaw
230106 | 23 | 3720 | 24340 | 28020 | Van Buren
230119 | 2160 | 0440 | 19804 | 11460 | Washtenaw
230130 | 2160 | 2640 | 47644 | 22420
230135 | 2160 | 0440 | 19804 | 11460 | Washtenaw
230146 | 2160 | 0440 | 19804 | 11460 | Washtenaw
230151 | 2160 | 2640 | 47644 | 22420
230165 | 2160 | 0440 | 19804 | 11460 | Washtenaw
230174 | 3000 | 3720 | 26100 | 28020 | Van Buren
230176 | 2160 | 0440 | 19804 | 11460 | Washtenaw
230207 | 2160 | 2640 | 47644 | 22420
230223 | 2160 | 2640 | 47644 | 22420
230236 | 3000 | 3720 | 24340 | 28020 | Kalamazoo
230254 | 2160 | 2640 | 47644 | 22420
230269 | 2160 | 2640 | 47644 | 22420
230270 | 2160 | 0440 | 19804 | 11460 | Washtenaw
230273 | 2160 | 0440 | 19804 | 11460 | Washtenaw
230277 | 2160 | 2640 | 47644 | 22420
250002 | 25 | 0920 | 25 | 37700 | Jackson
250122 | 25 | 0920 | 25 | 25060 | Hancock
270014 | 27 | 0880 | 33540 | 13740
270021 | 27 | 0880 | 27 | 13740
270023 | 5140 | 0880 | 33540 | 13740
270032 | 27 | 0880 | 27 | 13740
270050 | 27 | 0880 | 27 | 13740
270057 | 27 | 0880 | 27 | 13740
310021 | 8480 | 0875 | 45940 | 35644
310028 | 5640 | 5600 | 35084 | 35644
310050 | 5640 | 5600 | 35084 | 35644
310051 | 5640 | 5600 | 35084 | 35644
310060 | 5640 | 5600 | 10900 | 35644
310115 | 5640 | 5600 | 10900 | 35644
310120 | 5640 | 5600 | 35084 | 35644
330049 | 2281 | 5600 | 39100 | 35644
330067 | 2281 | 5600 | 39100 | 35644
330126 | 5660 | 5600 | 39100 | 35644
330135 | 5660 | 5600 | 39100 | 35644
330205 | 5660 | 5600 | 39100 | 35644
330264 | 5660 | 5380 | 39100 | 44844
340002 | 0480 | 1520 | 11700 | 16740 | Gaston
350002 | 1010 | 2520 | 13900 | 22020
350003 | 1010 | 2520 | 35 | 22020
350006 | 1010 | 2520 | 35 | 22020
350010 | 1010 | 2520 | 35 | 22020
350014 | 1010 | 2520 | 35 | 22020
350015 | 1010 | 2520 | 13900 | 22020
350017 | 1010 | 2520 | 35 | 22020
350030 | 1010 | 2520 | 35 | 22020
350061 | 1010 | 2520 | 35 | 22020
390001 | 7560 | 0240 | 42540 | 10900
390003 | 7560 | 0240 | 39 | 10900
390054 | 7560 | 4000 | 42540 | 29540
390072 | 7560 | 0240 | 39 | 10900
390095 | 7560 | 0240 | 42540 | 10900
390109 | 7560 | 0240 | 42540 | 10900
390119 | 7560 | 0240 | 42540 | 10900
390137 | 7560 | 0240 | 42540 | 10900
390169 | 7560 | 0240 | 42540 | 10900
390185 | 7560 | 0240 | 42540 | 10900
390192 | 7560 | 0240 | 42540 | 10900
390237 | 7560 | 0240 | 42540 | 10900
390270 | 7560 | 4000 | 42540 | 29540
430003 | 43 | 6660 |  | 39660
430015 | 43 | 7760 | 43 | 43620
430048 | 43 | 7760 | 43 | 43620
430060 | 43 | 7760 | 43 | 43620
430064 | 43 | 7760 | 43 | 43620
430077 | 6660 | 7760 | 39660 | 43620
430091 | 6660 | 7760 | 39660 | 43620
450010 | 9080 | 4880 | 48660 | 32580
450072 | 1145 | 3360 | 26420 | 26420
450591 | 1145 | 3360 | 26420 | 26420
470003 | 1303 | 1123 | 15540 | 40484 | Strafford
490001 | 49 | 4640 | 49 | 31340
490024 | 6800 | 1950 | 40220 | 19260

(Catalog of Federal Domestic Assistance Program No. 93.773, Medicare—Hospital Insurance; Program No. 93.774, Medicare—Supplementary Medical Insurance Program; and Program No. 93.778, Medical Assistance Program)
Dated: June 8,2004.
Ann C. Agnew,
Executive Secretary to the Department.

[FR Doc. 04-14346 Filed 6-24-04;8:45 am]

BILLING CODE 4120-03-P